OFFICE OF PERSONNEL MANAGEMENT

Excepted Service; Consolidated Listing of Schedules A, B, and C Exceptions

AGENCY: Office of Personnel Management.

ACTION: Notice.

SUMMARY: This gives a consolidated notice of all positions excepted under Schedules A, B, and C as of June 30, 2000, as required by Civil Service Rule VI, Exceptions from the Competitive Service.

SUPPLEMENTARY INFORMATION: Civil Service Rule VI (5 CFR 6.1) requires the Office of Personnel Management (OPM) to publish notice of all exceptions granted under Schedules A, B, and C. Title 5, Code of Federal Regulations, § 213.103(c), further requires that a consolidated listing, current as of June 30 of each year, be published annually as a notice in the Federal Register. That notice follows. OPM maintains continuing information on the status of all Schedule A, B, and C excepted appointing authorities. Interested parties needing information about specific authorities during the year may obtain information by writing to the Washington Service Center, Employment Service, Room 2469, Office of Personnel Management, 1900 E Street, NW., Washington, DC 20415, or by calling (202) 606-2575.

The following exceptions were current on June 30, 2000:

Schedule A

Section 213.3102 Entire Executive Civil Service

(a) Positions of Chaplain and Chaplain's Assistant.

(b) (Reserved).

(c) Positions to which appointments are made by the President without confirmation by the Senate.

(d) Attorneys.

(e) Law clerk trainee positions. Appointments under this paragraph shall be confined to graduates of recognized law schools or persons having equivalent experience and shall be for periods not to exceed 14 months pending admission to the bar. No person shall be given more than one appointment under this paragraph. However, an appointment that was initially made for less than 14 months may be extended for not to exceed 14 months in total duration.

(f) Chinese, Japanese, and Hindu interpreters.

(g) Any nontemporary position the duties of which are part-time or intermittent in which the appointee will receive compensation during his or her service year that aggregates not more than 40 percent of the annual salary rate for the first step of grade GS-3. This limited compensation includes any premium pay such as for overtime, night, Sunday, or holiday work. It does not, however, include any mandatory within-grade salary increases to which the employee becomes entitled subsequent to appointment under this authority. Appointments under this authority may not be for temporary project employment.

(h) Positions in Federal mental institutions when filled by persons who have been patients of such institutions and have been discharged and are certified by an appropriate medical authority thereof as recovered sufficiently to be regularly employed but it is believed desirable and in the interest of the persons and the institution that they be employed at the institution.

(i) Temporary and less-than-full time positions for which examining is impracticable. These are:

(1) Positions in remote/isolated locations where examination is impracticable. A remote/isolated location is outside of the local commuting area of a population center from which an employee can reasonably be expected to travel on short notice under adverse weather and/or road conditions which are normal for the area. For this purpose, a population center is a town with housing, schools, health care, stores and other businesses in which the servicing examining office can schedule tests and/or reasonably expect to attract applicants. An individual appointed under this authority may not be employed in the same agency under a combination of this and any other appointment to positions involving related duties and requiring the same qualifications for more than 1,040 working hours in a service year. Temporary appointments under this authority may be extended in 1-year increments, with no limit on the number of such extensions, as an exception to the service limits in § 213.104.

(2) Positions for which a critical hiring needs exists. This includes both short-term positions and continuing positions that an agency must fill on an interim basis pending completion of competitive examining, clearances, or other procedures required for a longer appointment. Appointments under this authority may not exceed 30 days and may be extended up to an additional 30 days if continued employment is essential to the agency's operations. The appointments may not be used to extend the service limit of any other appointing authority. An agency may not employ the same individual under this authority for more than 60 days in any 12-month period.

(3) Other positions for which OPM determines that examining is impracticable.

(j) Positions filled by current or former Federal employees eligible for placement under special statutory provisions. Appointments under this authority are subject to the following conditions:

(1) Eligible employees. (i) Persons previously employed as National Guard Technicians under 32 U.S.C. 709(a) who are entitled to placement under § 353.110 of this chapter, or who are applying for or receiving an annuity under the provisions of 5 U.S.C. 8337(h) or 5 U.S.C. 8456 by reason of a disability that disqualifies them from membership in the National Guard or from holding the military grade required as a condition of their National Guard employment;

(ii) Executive branch employees (other than employees of intelligence agencies) who are entitled to placement under § 353.110 but who are not eligible for reinstatement or noncompetitive appointment under the provisions of part 315 of this chapter.

(iii) Legislative and judicial branch employees and employees of the intelligence agencies defined in 5 U.S.C. 2302(a)(2)(C)(ii) who are entitled to placement assistance under § 353.110.

(2) Employees excluded. Employees who were last employed in Schedule C or under a statutory authority that specified the employee served at the discretion, will, or pleasure of the agency are not eligible for appointment under this authority.

(3) Position to which appointed. Employees who are entitled to placement under § 353.110 will be appointed to a position that OPM determines is equivalent in pay and grade to the one the individual left, unless the individual elects to be placed in a position of lower grade or pay. National Guard Technicians whose eligibility is based upon a disability may be appointed at the same grade, or equivalent, as their National Guard Technician position or at any lower grade for which they are available.

(4) Conditions of appointment. (i) Individuals whose placement eligibility is based on an appointment without time limit will receive appointments without time limit under this authority. These appointees may be reassigned, promoted, or demoted to any position within the same agency for which they qualify.

(ii) Individuals who are eligible for placement under § 353.110 based on a time-limited appointment will be given appointments for a time period equal to the unexpired portion of their previous appointment.

(k) Positions without compensation provided appointments thereto meet the requirements of applicable laws relating to compensation.

(l) Positions requiring the temporary or intermittent employment of professional, scientific, and technical experts for consultation purposes.

(m) (Reserved).

(n) Any local physician, surgeon, or dentist employed under contract or on a part-time or fee basis.

(o) Positions of a scientific, professional or analytical nature when filled by bona fide members of the faculty of an accredited college or university who have special qualifications for the positions to which appointed. Employment under this provision shall not exceed 130 working days a year.

(p)-(q) (Reserved).

(r) Positions established in support of fellowship and similar programs that are filled from limited applicant pools and operate under specific criteria developed by the employing agency and/or a non-Federal organization. These programs may include: internship or fellowship programs that provide developmental or professional experiences to individuals who have completed their formal education; training and associateship programs designed to increase the pool of qualified candidates in a particular occupational specialty; professional/industry exchange programs that provide for a cross-fertilization between the agency and the private sector to foster mutual understanding, an exchange of ideas, or to bring experienced practitioners to the agency; residency programs through which participants gain experience in a Federal clinical environment; and programs that require a period of Government service in exchange for educational, financial or other assistance. Appointment under this authority may not exceed 4 years.

(s) Positions with compensation fixed under 5 U.S.C. 5351-5356 when filled by student-employees assigned or attached to Government hospitals, clinics or medical or dental laboratories. Employment under this authority may not exceed 4 years.

(t) Positions when filled by mentally retarded persons in accordance with the guidance in Federal Personnel Manual chapter 306. Upon completion of 2 years of satisfactory service under this authority, the employee may qualify for conversion to competitive status under the provisions of Executive Order 12125 and implementing regulations issued by OPM.

(u) Positions when filled by severely physically handicapped persons who: (1) Under a temporary appointment have demonstrated their ability to perform the duties satisfactorily; or (2) have been certified by counselors of State vocational rehabilitation agencies or the Veterans Administration as likely to succeed in the performance of the duties. Upon completion of 2 years of satisfactory service under this authority, the employee may qualify for conversion to competitive status under the provisions of Executive Order 12125 and implementing regulations issued by OPM.

(v)-(w) (Reserved).

(x) Positions for which a local recruiting shortage exists when filled by inmates of Federal, District of Columbia, and State (including the Commonwealth of Puerto Rico, the Virgin Islands, Guam, American Samoa, and the Trust Territory of the Pacific Islands) penal and correctional institutions under work-release programs authorized by the Prisoner Rehabilitation Act of 1965, the District of Columbia Work Release Act, or under work-release programs authorized by the States. Initial appointments under this authority may not exceed 1 year. An initial appointment may be extended for one or more periods not to exceed 1 additional year each upon a finding that the inmate is still in a work-release status and that a local recruiting shortage still exists. No person may serve under this authority longer than 1 year beyond the date of that person's release from custody.

(y) (Reserved).

(z) Not to exceed 30 positions of assistants to top-level Federal officials when filled by persons designated by the President as White House Fellows.

(aa) Scientific and professional research associate positions at GS-11 and above when filled on a temporary basis by persons having a doctoral degree in an appropriate field of study for research activities of mutual interest to appointees and their agencies. Appointments are limited to persons referred by the National Research Council under its post-doctoral research associate program, may not exceed 2 years, and are subject to satisfactory outcome of evaluation of the associate's research during the first year.

(bb) Positions when filled by aliens in the absence of qualified citizens. Appointments under this authority are subject to prior approval of OPM except when the authority is specifically included in a delegated examining agreement with OPM.

(cc)-(ee) (Reserved).

(ff) Not to exceed 25 positions when filled in accordance with an agreement between OPM and the Department of Justice by persons in programs administered by the Attorney General of the United States under Public Law 91-452 and related statutes. A person appointed under this authority may continue to be employed under it after he/she ceases to be in a qualifying program only as long as he/she remains in the same agency without a break in service.

(gg)-(hh) (Reserved).

(ii) Positions of Presidential Intern, GS-9 and 11, in the Presidential Management Intern Program. Initial appointments must be made at the GS-9 level. No one may serve under this authority for more than 2 years, unless extended with OPM approval for up to 1 additional year. Upon completion of 2 years of satisfactory service under this authority, the employee may qualify for conversion to competitive appointment under the provisions of Executive order 12364, in accordance with requirements published in the Federal Personnel Manual.

(jj-kk) (Reserved).

(ll) Positions as needed of readers for blind employees, interpreters for deaf employees and personal assistants for handicapped employees, filled on a full time, part-time, or intermittent basis.

Section 213.3103 Executive Office of the President

(a) Office of Administration. (1) Not to exceed 75 positions to provide administrative services and support to the White House office.

(b) Office of Management and Budget. (1) Not to exceed 15 positions at grades

GS-5/15.

(c) Council on Environmental Quality. (1) Professional and technical positions in grades GS-9 through 15 on the staff of the Council.

(d)-(f) (Reserved).

(g) National Security Council. (1) All positions on the staff of the Council.

(h) Office of Science and Technology Policy. (1) Thirty positions of Senior Policy Analyst, GS-15; Policy Analyst, GS-11/14; and Policy Research Assistant, GS-9, for employment of anyone not to exceed 5 years on projects of a high priority nature.

(i) Office of National Drug Control Policy. (1) Not to exceed 15 positions, GS-15 and below, of senior policy analysts and other personnel with expertise in drug-related issues and/or technical knowledge to aid in anti-drug abuse efforts.

Section 213.3104 Department of State

(a) Office of the Secretary. (1) All positions, GS-15 and below, on the staff of the Family Liaison Office, Director General of the Foreign Service and the Director of Personnel, Office of the Under Secretary for Management.

(2) One position of Museum Curator (Arts), in the Office of the Under Secretary for Management, whose incumbent will serve as Director, Diplomatic Reception Rooms. No new appointments may be made after February 28, 1997.

(b) American Embassy, Paris, France. (1) Chief, Travel and Visitor Unit. No new appointments may be made under this authority after August 10, 1981.

(c)-(f) (Reserved).

(g) Bureau of Population, Refugees, and Migration. (1) Not to exceed 10 positions at grades GS-5 through 11 on the staff of the Bureau.

(h) Bureau of Administration. (1) One Presidential Travel Officer. No new appointments may be made under this authority after June 11, 1981.

(2) One position of the Director, Art in Embassies Program, GM-1001-15.

Section 213.3105 Department of the Treasury

(a) Office of the Secretary. (1) Not to exceed 20 positions at the equivalent of GS-13 through GS-17 to supplement permanent staff in the study of complex problems relating to international financial, economic, trade, and energy policies and programs of the Government, when filled by individuals with special qualifications for the particular study being undertaken. Employment under this authority may not exceed 4 years.

(2) Not to exceed 20 positions, which will supplement permanent staff involved in the study and analysis of complex problems in the area of domestic economic and financial policy. Employment under this authority may not exceed 4 years.

(3) Not to exceed 20 positions in the Office of the Under Secretary (Enforcement). Employment under this authority may not exceed 4 years, and no new appointments may be made after July 31, 2001.

(b) U.S. Customs Service. (1) Positions in foreign countries designated as “interpreter-translator” and “special employees,” when filled by appointment of persons who are not citizens of the United States; and positions in foreign countries of messenger and janitor.

(2)-(5) (Reserved).

(6) Three hundred positions of Criminal Investigator for special assignments and 10 positions for oversight policy and direction of sensitive law enforcement activities.

(7)-(8) (Reserved).

(9) Not to exceed 25 positions of Customs Patrol Officers in the Papago Indian Agency in the State of Arizona when filled by the appointment of persons of one-fourth or more Indian blood.

(d) Office of Thrift Supervision. (1) All positions in the supervision policy and supervision operations functions of OTS. No new appointments may be made under this authority after December 31, 1993.

(e) Internal Revenue Service. (1) Twenty positions of investigator for special assignments.

(f) (Reserved).

(g) Bureau of Alcohol, Tobacco, and Firearms. (1) One hundred positions of criminal investigator for special assignments.

(2) One non-permanent Senior Level (SL) Criminal Investigator to serve as a senior advisor to the Assistant Director (Firearms, Explosives, and Arson).

Section 213.3106 Department of Defense

(a) Office of the Secretary. (1)-(5) (Reserved).

(6) One Executive Secretary, US-USSR Standing Consultative Commission and Staff Analyst (SALT), Office of the Assistant Secretary of Defense (International Security Affairs).

(b) Entire Department (including the Office of the Secretary of Defense and the Departments of the Army, Navy, and Air Force). (1) Professional positions in Military Dependent School Systems overseas.

(2) Positions in attache 1 systems overseas, including all professional and scientific positions in the Naval Research Branch Office in London.

(3) Positions of clerk-translator, translator, and interpreter overseas.

(4) Positions of Educational Specialist the incumbents of which will serve as Director of Religious Education on the staffs of the chaplains in the military services.

(5) Positions under the program for utilization of alien scientists, approved under pertinent directives administered by the Director of Defense Research and Engineering of the Department of Defense, when occupied by alien scientists initially employed under the program including those who have acquired United States citizenship during such employment.

(6) Positions in overseas installations of the Department of Defense when filled by dependents of military or civilian employees of the U.S. Government residing in the area. Employment under this authority may not extend longer than 2 months following the transfer from the area or separation of a dependent's sponsor: Provided, that (i) a school employee may be permitted to complete the school year; and (ii) an employee other than a school employee may be permitted to serve up to 1 additional year when the military department concerned finds that the additional employment is in the interest of management.

(7) Twenty secretarial and staff support positions at GS-12 or below on the White House Support Group.

(8) Positions in DOD research and development activities occupied by participants in the DOD Science and Engineering Apprenticeship Program for High School Students. Persons employed under this authority shall be bona fide high school students, at least 14 years old, pursuing courses related to the position occupied and limited to 1,040 working hours a year. Children of DOD employees may be appointed to these positions, notwithstanding the sons and daughters restriction, if the positions are in field activities at remote locations. Appointments under this authority may be made only to positions for which qualification standards established under 5 CFR Part 302 are consistent with the education and experience standards established for comparable positions in the competitive service. Appointments under this authority may not be used to extend the service limits contained in any other appointing authority.

(d) General. (1) Positions concerned with advising, administering, supervising, or performing work in the collection, processing, analysis, production, evaluation, interpretation, dissemination, and estimation of intelligence information, including scientific and technical positions in the intelligence function; and positions involved in the planning, programming, and management of intelligence resources when, in the opinion of OPM, it is impracticable to examine. This authority does not apply to positions assigned to cryptologic and communications intelligence activities/functions.

(2) Positions involved in intelligence-related work of the cryptologic intelligence activities of the military departments. This includes all positions of intelligence research specialist, and similar positions in the intelligence classification series; all scientific and technical positions involving the applications of engineering, physical or technical sciences to intelligence work; and professional as well as intelligence technician positions in which a majority of the incumbent's time is spent in advising, administering, supervising, or performing work in the collection, processing, analysis, production, evaluation, interpretation, dissemination, and estimation of intelligence information or in the planning, programming, and management of intelligence resources.

(e) Uniformed Services University of the Health Sciences.

(1) Positions of President, Vice Presidents, Assistant Vice Presidents, Deans, Deputy Deans, Associate Deans, Assistant Deans, Assistants to the President, Assistants to the Vice Presidents, Assistants to the Deans, Professors, Associate Professors, Assistant Professors, Instructors, Visiting Scientists, Research Associates, Senior Research Associates, and Postdoctoral Fellows.

(2) Positions established to perform work on projects funded from grants.

(f) National Defense University. (1) Not to exceed 16 positions of senior policy analyst, GS-15, at the Strategic Concepts Development Center. Initial appointments to these positions may not exceed 6 years, but may be extended thereafter in 1-, 2-, or 3-year increments, indefinitely.

(g) Defense Communications Agency. (1) Not to exceed 10 positions at grades GS-10/15 to staff and support the Crisis Management Center at the White House.

(h) Defense Systems Management College, Fort Belvoir, Va. (1) The Provost and professors in grades GS-13 through 15.

(i) George C. Marshall European Center for Security Studies, Garmisch, Germany.

(1) The Director, Deputy Director, and positions of professor, instructor, and lecturer at the George C. Marshall European Center for Security Studies, Garmisch, Germany, for initial employment not to exceed 3 years, which may be renewed in increments from 1 to 2 years thereafter.

(j) Asia-Pacific Center for Security Studies, Honolulu, Hawaii. (1) The Director, Deputy Director, Dean of Academics, Director of College, deputy department chairs, and senior positions of professor, associate professor, and research fellow within the Asia Pacific Center. Appointments may be made not to exceed 3 years and may be extended for periods not to exceed 3 years.

Section 213.3107 Department of the Army

(a)-(c) (Reserved).

(d) U.S. Military Academy, West Point, New York. (1) Civilian professors, instructors, teachers (except teachers at the Children's School), Cadet Social Activities Coordinator, Chapel Organist and Choir-Master, Director of Intercollegiate Athletics, Associate Director of Intercollegiate Athletics, coaches, Facility Manager, Building Manager, three Physical Therapists (Athletic Trainers), Associate Director of Admissions for Plans and Programs, Deputy Director of Alumni Affairs; and librarian when filled by an officer of the Regular Army retired from active service, and the military secretary to the Superintendent when filled by a U.S. Military Academy graduate retired as a regular commissioned officer for disability.

(e)-(f) (Reserved).

(g) Defense Language Institute. (1) All positions (professors, instructors, lecturers) which require proficiency in a foreign language or a knowledge of foreign language teaching methods.

(h) Army War College, Carlisle Barracks, PA. (1) Positions of professor, instructor, or lecturer associated with courses of instruction of at least 10 months duration for employment not to exceed 5 years, which may be renewed in 1-, 2-, 3-, 4-, or 5-year increments indefinitely thereafter.

(i) (Reserved).

(j) U.S. Military Academy Preparatory School, Fort Monmouth, New Jersey. (1) Positions of Academic Director, Department Head, and Instructor.

(k) U.S. Army Command and General Staff College, Fort Leavenworth, Kansas. (1) Positions of professor, associate professor, assistant professor, and instructor associated with courses of instruction of at least 10 months duration, for employment not to exceed up to 5 years, which may be renewed in 1, 2, 3, 4, or 5-year increments indefinitely thereafter.

Section 213.3108 Department of the Navy

(a) General. (1)-(14) (Reserved).

(15) Marine positions assigned to a coastal or seagoing vessel operated by a naval activity for research or training purposes.

(16) All positions necessary for the administration and maintenance of the official residence of the Vice President.

(b) Naval Academy, Naval Postgraduate School, and Naval War College. (1) Professors, instructors, and teachers; the Director of Academic Planning, Naval Postgraduate School; and the Librarian, Organist-Choirmaster, Registrar, the Dean of Admissions, and social counselors at the Naval Academy.

(c) Chief of Naval Operations. (1) One position at grade GS-12 or above that will provide technical, managerial, or administrative support on highly classified functions to the Deputy Chief of Naval Operations (Plans, Policy, and Operations).

(d) Military Sealift Command. (1) All positions on vessels operated by the Military Sealift Command.

(e) Pacific Missile Range Facility, Barking Sands, Hawaii. (1) All positions. This authority applies only to positions that must be filled pending final decision on contracting of Facility operations. No new appointments may be made under this authority after July 29, 1988.

(f) (Reserved).

(g) Office of Naval Research. (1) Scientific and technical positions, GS/GM-13/15, in the Office of Naval Research Asian Office in Tokyo, Japan, which covers East Asia, New Zealand and Australia. Positions are to be filled by personnel having specialized experience in scientific and/or technical disciplines of current interest to the Department of the Navy.

Section 213.3109 Department of the Air Force

(a) Office of the Secretary. (1) One Special Assistant in the Office of the Secretary of the Air Force. This position has advisory rather than operating duties except as operating or administrative responsibilities may be exercised in connection with the pilot studies.

(b) General. (1) Professional, technical, managerial and administrative positions supporting space activities, when approved by the Secretary of the Air Force.

(2) Ninety-five positions engaged in interdepartmental defense projects involving scientific and technical evaluations.

(c) Not to exceed 20 professional positions, GS-11 through GS-15, in Detachments 6 and 51, SM-ALC, Norton and McClellan Air Force Bases, California, which will provide logistic support management to specialized research and development projects.

(d) U.S. Air Force Academy, Colorado. (1) (Reserved).

(2) Positions of Professor, Associate Professor, Assistant Professor, and Instructor, in the Dean of Faculty, Commandant of Cadets, Director of Athletics, and Preparatory School of the United States Air Force Academy.

(e) (Reserved).

(f) Air Force Office of Special Investigations. (1) Not to exceed 350 positions of Criminal Investigators/Intelligence Research Specialists, GS-5 through GS-15.

(g) Not to exceed eight positions, GS-12 through 15, in Headquarters Air Force Logistics Command, DCS Material Management, Office of Special Activities, Wright-Patterson Air Force Base, Ohio, which will provide logistic support management staff guidance to classified research and development projects.

(h) Air University, Maxwell Air Force Base, Alabama. (1) Positions of Professor, Instructor, or Lecturer.

(i) Air Force Institute of Technology, Wright-Patterson Air Force Base, Ohio. (1) Civilian deans and professors.

(j) Air Force Logistics Command. (1) One Supervisory Logistics Management Specialist, GM-346-14, in Detachment 2, 2762 Logistics Management Squadron (Special), Greenville, Texas.

(k) One position of Supervisory Logistics Management Specialist, GS-346-15, in the 2762nd Logistics Squadron (Special), at Wright-Patterson Air Force Base, Ohio.

(1) One position of Commander, Air National Guard Readiness Center, Andrews Air Force Base, Maryland.

Section 213.3110 Department of Justice

(a) General. (1) Deputy U.S. Marshals employed on an hourly basis for intermittent service.

(2) Positions at GS-15 and below on the staff of an office of a special counsel.

(3)-(5) (Reserved).

(6) Positions of Program Manager and Assistant Program Manager supporting the International Criminal Investigative Training Assistance Program in foreign countries. Initial appointments under this authority may not exceed 2 years, but may be extended for an additional period not to exceed 2 years.

(b) Immigration and Naturalization Service. (1) (Reserved).

(2) Not to exceed 500 positions of interpreters and language specialists, GS-1040-5/9.

(3) Not to exceed 25 positions, GS-15 and below, with proficiency in speaking, reading, and writing the Russian language and serving in the Soviet Refugee Processing Program with permanent duty location in Moscow, Russia.

(c) Drug Enforcement Administration. (1) (Reserved).

(2) Four hundred positions of Intelligence Research Agent and/or Intelligence Operation Specialist in the GS-132 series, grades GS-9 through GS-15.

(3) Not to exceed 200 positions of Criminal Investigator (Special Agent). New appointments may be made under this authority only at grades GS-7/11.

(d) National Drug Intelligence Center. All positions.

Section 213.3112 Department of the Interior

(a) General. (1) Technical, maintenance, and clerical positions at or below grades GS-7, WG-10, or equivalent, in the field service of the Department of the Interior, when filled by the appointment of persons who are certified as maintaining a permanent and exclusive residence within, or contiguous to, a field activity or district, and as being dependent for livelihood primarily upon employment available within the field activity of the Department.

(2) All positions on Government-owned ships or vessels operated by the Department of the Interior.

(3) Temporary or seasonal caretakers at temporarily closed camps or improved areas to maintain grounds, buildings, or other structures and prevent damages or theft of Government property. Such appointments shall not extend beyond 130 working days a year without the prior approval of OPM.

(4) Temporary, intermittent, or seasonal field assistants at GS-7, or its equivalent, and below in such areas as forestry, range management, soils, engineering, fishery and wildlife management, and with surveying parties. Employment under this authority may not exceed 180 working days a year.

(5) Temporary positions established in the field service of the Department for emergency forest and range fire prevention or suppression and blister rust control for not to exceed 180 working days a year: Provided, that an employee may work as many as 220 working days a year when employment beyond 180 days is required to cope with extended fire seasons or sudden emergencies such as fire, flood, storm, or other unforeseen situations involving potential loss of life or property.

(6) Persons employed in field positions, the work of which is financed jointly by the Department of the Interior and cooperating persons or organizations outside the Federal service.

(7) All positions in the Bureau of Indian Affairs and other positions in the Department of the Interior directly and primarily related to providing services to Indians when filled by the appointment of Indians. The Secretary of the Interior is responsible for defining the term “Indian.”

(8) Temporary, intermittent, or seasonal positions at GS-7 or below in Alaska, as follows: Positions in nonprofessional mining activities, such as those of drillers, miners, caterpillar operators, and samplers. Employment under this authority shall not exceed 180 working days a year and shall be appropriate only when the activity is carried on in a remote or isolated area and there is a shortage of available candidates for the positions.

(9) Temporary, part-time, or intermittent employment of mechanics, skilled laborers, equipment operators and tradesmen on construction, repair, or maintenance work not to exceed 180 working days a year in Alaska, when the activity is carried on in a remote or isolated area and there is a shortage of available candidates for the positions.

(10) Seasonal airplane pilots and airplane mechanics in Alaska, not to exceed 180 working days a year.

(11) Temporary staff positions in the Youth Conservation Corps Centers operated by the Department of the Interior. Employment under this authority shall not exceed 11 weeks a year except with prior approval of OPM.

(12) Positions in the Youth Conservation Corps for which pay is fixed at the Federal minimum wage rate. Employment under this authority may not exceed 10 weeks.

(b) (Reserved).

(c) Indian Arts and Crafts Board. (1) The Executive Director.

(d) (Reserved).

(e) Office of the Assistant Secretary, Territorial and International Affairs. (1) (Reserved).

(2) Not to exceed four positions of Territorial Management Interns, grades GS-5, GS-7, or GS-9, when filled by territorial residents who are U.S. citizens from the Virgin Islands or Guam; U.S. nationals from American Samoa; or in the case of the Northern Marianas, will become U.S. citizens upon termination of the U.S. trusteeship. Employment under this authority may not exceed 6 months.

(3) (Reserved).

(4) Special Assistants to the Governor of American Samoa who perform specialized administrative, professional, technical, and scientific duties as members of his or her immediate staff.

(f) National Park Service. (1) (Reserved).

(2) Positions established for the administration of Kalaupapa National Historic Park, Molokai, Hawaii, when filled by appointment of qualified patients and Native Hawaiians, as provided by Public Law 95-565.

(3) Seven full-time permanent and 31 temporary, part-time, or intermittent positions in the Redwood National Park, California, which are needed for rehabilitation of the park, as provided by Public Law 95-250.

(4) One Special Representative of the Director.

(5) All positions in the Grand Portage National Monument, Minnesota, when filled by the appointment of recognized members of the Minnesota Chippewa Tribe.

(g) Bureau of Reclamation. (1) Appraisers and examiners employed on a temporary, intermittent, or part-time basis on special valuation or prospective-entrymen-review projects where knowledge of local values on conditions or other specialized qualifications not possessed by regular Bureau employees are required for successful results. Employment under this provision shall not exceed 130 working days a year in any individual case: Provided, that such employment may, with prior approval of OPM, be extended for not to exceed an additional 50 working days in any single year.

(h) Office of the Deputy Assistant Secretary for Territorial Affairs. (1) Positions of Territorial Management Interns, GS-5, when filled by persons selected by the Government of the Trust Territory of the Pacific Islands. No appointment may extend beyond 1 year.

Section 213.3113 Department of Agriculture

(a) General. (1) Agents employed in field positions the work of which is financed jointly by the Department and cooperating persons, organizations, or governmental agencies outside the Federal service. Except for positions for which selection is jointly made by the Department and the cooperating organization, this authority is not applicable to positions in the Agricultural Research Service or the National Agricultural Statistics Service. This authority is not applicable to the following positions in the Agricultural Marketing Service: Agricultural commodity grader (grain) and (meat), (poultry), and (dairy), agricultural commodity aid (grain), and tobacco inspection positions.

(2)-(4) (Reserved).

(5) Temporary, intermittent, or seasonal employment in the field service of the Department in positions at and below GS-7 and WG-10 in the following types of positions: Field assistants for subprofessional services; agricultural helpers, helper-leaders, and workers in the Agricultural Research Service and the Animal and Plant Health Inspection Service; and subject to prior OPM approval granted in the calendar year in which the appointment is to be made, other clerical, trades, crafts, and manual labor positions. Total employment under this subparagraph may not exceed 180 working days in a service year: Provided, that an employee may work as many as 220 working days in a service year when employment beyond 180 days is required to cope with extended fire seasons or sudden emergencies such as fire, flood, storm, or other unforeseen situations involving potential loss of life or property. This paragraph does not cover trades, crafts, and manual labor positions covered by paragraph (i) of § 213.3102 or positions within the Forest Service.

(6) (Reserved).

(7) Not to exceed 34 Program Assistants, whose experience acquired in positions excepted from the competitive civil service in the administration of agricultural programs at the State level is needed by the Department for the more efficient administration of its programs. No new appointment may be made under this authority after December 31, 1985.

(b)-(c) (Reserved).

(d) Farm Service Agency. (1) (Reserved).

(2) Members of State Committees: Provided, that employment under this authority shall be limited to temporary intermittent (WAE) positions whose principal duties involve administering farm programs within the State consistent with legislative and Departmental requirements and reviewing national procedures and policies for adaptation at State and local levels within established parameters. Individual appointments under this authority are for 1 year and may be extended only by the Secretary of Agriculture or his designee. Members of State Committees serve at the pleasure of the Secretary.

(e) Rural Development. (1) (Reserved).

(2) County committeemen to consider, recommend, and advise with respect to the Rural Development program.

(3) Temporary positions whose principal duties involve the making and servicing of natural disaster emergency loans pursuant to current statutes authorizing natural disaster emergency loans. Appointments under this provision shall not exceed 1 year unless extended for one additional period not to exceed 1 year, but may, with prior approval of OPM be further extended for additional periods not to exceed 1 year each.

(4)-(5) (Reserved).

(6) Professional and clerical positions in the Trust Territory of the Pacific Islands when occupied by indigenous residents of the Territory to provide financial assistance pursuant to current authorizing statutes.

(f) Agricultural Marketing Service. (1) Positions of Agricultural Commodity Graders, Agricultural Commodity Technicians, and Agricultural Commodity Aids at grades GS-9 and below in the tobacco, dairy, and poultry commodities; Meat Acceptance Specialists, GS-11 and below; Clerks, Office Automation Clerks, and Computer Clerks at GS-5 and below; Clerk-Typists at grades GS-4 and below; and Laborers under the Wage System. Employment under this authority is limited to either 1,280 hours or 180 days in a service year.

(2) Positions of Agricultural Commodity Graders, Agricultural Commodity Technicians, and Agricultural Commodity Aids at grades GS-11 and below in the cotton, raisin, and processed fruit and vegetable commodities and the following positions in support of these commodities: Clerks, Office Automation Clerks, and Computer Clerks and Operators at GS-5 and below; Clerk-Typists at grades GS-4 and below; and, under the Federal Wage System, High Volume Instrumentation (HVI) Operators and HVI Operator Leaders at WG/WL-2 and below, respectively, Instrument Mechanics/Workers/Helpers at WG-10 and below, and Laborers. Employment under this authority may not exceed 180 days in a service year. In unforeseen situations such as bad weather or crop conditions, unanticipated plant demands, or increased imports, employees may work up to 240 days in a service year. Cotton Agricultural Commodity Graders, GS-5, may be employed as trainees for the first appointment for an initial period of 6 months for training without regard to the service year limitation.

(3) Milk Market Administrators.

(4) All positions on the staffs of the Milk Market Administrators. (g)-(k) (Reserved).

(l) Food Safety and Inspection Service. (1)-(2) (Reserved).

(3) Positions of meat and poultry inspectors (veterinarians at GS-11 and below and nonveterinarians at appropriate grades below GS-11) for employment on a temporary, intermittent, or seasonal basis, not to exceed 1,280 hours a year.

(m) Grain Inspection, Packers and Stockyards Administration. (1) One hundred and fifty positions of Agricultural Commodity Aid (Grain), GS-2/4; 100 positions of Agricultural Commodity Technician (Grain), GS-4/7; and 60 positions of Agricultural Commodity Grader (Grain), GS-5/9, for temporary employment on a part-time, intermittent, or seasonal basis not to exceed 1,280 hours in a service year.

(n) Alternative Agricultural Research and Commercialization Corporation. (1) Executive Director.

Section 213.3114 Department of Commerce

(a) General. (1)-(2) (Reserved).

(3) Not to exceed 50 scientific and technical positions whose duties are performed primarily in the Antarctic. Incumbents of these positions may be stationed in the continental United States for periods of orientation, training, analysis of data, and report writing.

(b)-(c) (Reserved).

(d) Bureau of the Census. (1) Managers, supervisors, technicians, clerks, interviewers, and enumerators in the field service, for time-limited employment to conduct a census.

(2) Current Program Interviewers employed in the field service. (e)-(h) (Reserved).

(i) Office of the Under Secretary for International Trade.

(1) Fifteen positions at GS-12 and above in specialized fields relating to international trade or commerce in units under the jurisdiction of the Under Secretary for International Trade. Incumbents will be assigned to advisory rather than to operating duties, except as operating and administrative responsibility may be required for the conduct of pilot studies or special projects. Employment under this authority will not exceed 2 years for an individual appointee.

(2) (Reserved).

(3) Not to exceed 15 positions in grades GS-12 through GS-15, to be filled by persons qualified as industrial or marketing specialists; who possess specialized knowledge and experience in industrial production, industrial operations and related problems, market structure and trends, retail and wholesale trade practices, distribution channels and costs, or business financing and credit procedures applicable to one or more of the current segments of U.S. industry served by the Under Secretary for International Trade, and the subordinate components of his organization which are involved in Domestic Business matters. Appointments under this authority may be made for a period of not to exceed 2 years and may, with prior approval of OPM, be extended for an additional period of 2 years.

(j) National Oceanic and Atmospheric Administration. (1)-(2) (Reserved).

(3) All civilian positions on vessels operated by the National Ocean Service.

(4) Temporary positions required in connection with the surveying operations of the field service of the National Ocean Service. Appointment to such positions shall not exceed 8 months in any 1 calendar year.

(k) (Reserved).

(l) National Telecommunication and Information Administration. (1) Seventeen professional positions in grades GS-13 through GS-15.

Section 213.3115 Department of Labor

(a) Office of the Secretary. (1) Chairman and five members, Employees' Compensation Appeals Board.

(2) Chairman and eight members, Benefits Review Board. (b)-(c) (Reserved).

(d) Employment and Training Administration. (1) Not to exceed 10 positions of Supervisory Manpower Development Specialist and Manpower Development Specialist, GS-7/15, in the Division of Indian and Native American Programs, when filled by the appointment of persons of one-fourth or more Indian blood. These positions require direct contact with Indian tribes and communities for the development and administration of comprehensive employment and training programs.

Section 213.3116 Department of Health and Human Services

(a) General. (1) Intermittent positions, at GS-15 and below and WG-10 and below, on teams under the National Disaster Medical System including Disaster Medical Assistance Teams and specialty teams, to respond to disasters, emergencies, and incidents/events involving medical, mortuary and public health needs.

(b) Public Health Service. (1) (Reserved).

(2) Positions at Government sanatoria when filled by patients during treatment or convalescence.

(3) (Reserved).

(4) Positions concerned with problems in preventive medicine financed or participated in by the Department of Health and Human Services and a cooperating State, county, municipality, incorporated organization, or an individual in which at least one-half of the expense is contributed by the participating agency either in salaries, quarters, materials, equipment, or other necessary elements in the carrying on of the work.

(5)-(6) (Reserved).

(7) Not to exceed 50 positions associated with health screening programs for refugees.

(8) All positions in the Public Health Service and other positions in the Department of Health and Human Services directly and primarily related to providing services to Indians when filled by the appointment of Indians. The Secretary of Health and Human Services is responsible for defining the term “Indian.”

(9) (Reserved).

(10) Health care positions of the National Health Service Corps for employment of any one individual not to exceed 4 years of service in health manpower shortage areas.

(11)-(14) (Reserved).

(15) Not to exceed 200 staff positions, GS-15 and below, in the Immigration Health Service, for an emergency staff to provide health related services to foreign entrants.

(c)-(e) (Reserved).

(f) The President's Council on Physical Fitness. (1) Four staff assistants.

Section 213.3117 Department of Education

(a) Positions concerned with problems in education financed and participated in by the Department of Education and a cooperating State educational agency, or university or college, in which there is joint responsibility for selection and supervision of employees, and at least one-half of the expense is contributed by the cooperating agency in salaries, quarters, materials, equipment, or other necessary elements in the carrying on of the work.

Section 213.3124 Board of Governors, Federal Reserve System

(a) All positions.

Section 213.3127 Department of Veterans Affairs

(a) Construction Division. (1) Temporary construction workers paid from “purchase and hire” funds and appointed for not to exceed the duration of a construction project.

(b) Not to exceed 400 positions of rehabilitation counselors, GS-3 through GS-11, in Alcoholism Treatment Units and Drug Dependence Treatment Centers, when filled by former patients.

(c) Board of Veterans' Appeals. (1) Positions, GS-15, when filled by a member of the Board. Except as provided by section 201(d) of Public Law 100-687, appointments under this authority shall be for a term of 9 years, and may be renewed.

(2) Positions, GS-15, when filled by a non-member of the Board who is awaiting Presidential approval for appointment as a Board member.

(d) Not to exceed 600 positions at grades GS-3 through GS-11, involved in the Department's Vietnam Era Veterans Readjustment Counseling Service.

Section 213.3132 Small Business Administration

(a) When the President under 42 U.S.C. 1855-1855g, the Secretary of Agriculture under 7 U.S.C. 1961, or the Small Business Administration under 15 U.S.C. 636(b)(1) declares an area to be a disaster area, positions filled by time-limited appointment of employees to make and administer disaster loans in the area under the Small Business Act, as amended. Service under this authority may not exceed 4 years, and no more than 2 years may be spent on a single disaster. Exception to this time limit may only be made with prior Office approval. Appointments under this authority may not be used to extend the 2-year service limit contained in paragraph (b) below. No one may be appointed under this authority to positions engaged in long-term maintenance of loan portfolios.

(b) When the President under 42 U.S.C. 1855-1855g, the Secretary of Agriculture under 7 U.S.C. 1961, or the Small Business Administration under 15 U.S.C. 636(b)(1) declares an area to be a disaster area, positions filled by time-limited appointment of employees to make and administer disaster loans in that area under the Small Business Act, as amended. No one may serve under this authority for more than an aggregate of 2 years without a break in service of at least 6 months. Persons who have had more than 2 years of service under paragraph (a) of this section must have a break in service of at least 8 months following such service before appointment under this authority. No one may be appointed under this authority to positions engaged in long-term maintenance of loan portfolios.

Section 213.3133 Federal Deposit Insurance Corporation

(a)-(b) (Reserved).

(c) Temporary positions located at closed banks or savings and loan institutions that are concerned with liquidating the assets of the institutions, liquidating loans to the institutions, or paying the depositors of closed insured institutions. New appointments may be made under this authority only during the 60 days immediately following the institution's closing date. Such appointments may not exceed 1 year, but may be extended for not to exceed 1 additional year.

Section 213.3136 U.S. Soldiers' and Airmen's Home

(a) (Reserved).

(b) Positions when filled by member-residents of the Home.

Section 213.3138 Federal Communications Commission

(a) Fifteen positions of Telecommunications Policy Analyst, GS-301-13/14/15. Initial appointment to these positions will be for a period of not to exceed 2 years with provision for two 1-year extensions. No new appointments may be made under this authority after May 31, 1998.

Section 213.3142 Export-Import Bank of the United States

(a) One Special Assistant to the Board of Directors, grade GS-14 and above.

Section 213.3146 Selective Service System

(a) State Directors.

Section 213.3148 National Aeronautics and Space Administration

(a) One hundred and fifty alien scientists having special qualifications in the fields of aeronautical and space research where such employment is deemed by the Administrator of the National Aeronautics and Space Administration to be necessary in the public interest.

Section 213.3155 Social Security Administration

(a) Six positions of Social Insurance Representative in the district offices of the Social Security Administration in the State of Arizona when filled by the appointment of persons of one-fourth or more Indian blood.

(b) Seven positions of Social Insurance Representative in the district offices of the Social Security Administration in the State of New Mexico when filled by the appointment of persons of one-fourth or more Indian blood.

(c) Two positions of Social Insurance Representative in the district offices of the Social Security Administration in the State of Alaska when filled by the appointments of persons of one-fourth or more Alaskan Native blood (Eskimos, Indians, or Aleuts).

Section 213.3162 The President's Crime Prevention Council

(a) Up to 7 positions established in the President's Crime Prevention Council office created by the Violent Crime Control and Law Enforcement Act of 1994. No new appointments may be made under this authority after March 31, 1998.

Section 213.3165 Chemical Safety and Hazard Investigation Board

(a) Up to 37 positions established to create the Chemical Safety and Hazard Investigation Board. No new appointments may be made under this authority after December 31, 2000.

Section 213.3174 Smithsonian Institution

(a) (Reserved).

(b) All positions located in Panama which are part of or which support the Smithsonian Tropical Research Institute.

(c) Positions at GS-15 and below in the National Museum of the American Indian requiring knowledge of, and experience in, tribal customs and culture. Such positions comprise approximately 10 percent of the Museum's positions and, generally, do not include secretarial, clerical, administrative, or program support positions.

Section 213.3175 Woodrow Wilson International Center for Scholars

(a) One Asian Studies Program Administrator, one International Security Studies Program Administrator, one Latin American Program Administrator, one Russian Studies Program Administrator, one West European Program Administrator, one Environmental Change & Security Studies Program Administrator, one United States Studies Program Administrator, and two Social Science Program Administrators.

Section 213.3178 Community Development Financial Institutions Fund

(a) All positions in the Fund and positions created for the purpose of establishing the Fund's operations in accordance with the Community Development Banking and Financial Institutions Act of 1994, except for any positions required by the Act to be filled by competitive appointment. No new appointments may be made under this authority after September 23, 1998.

Section 213.3180 Utah Reclamation and Conservation Commission

(a) Executive Director.

Section 213.3182 National Foundation on the Arts and the Humanities

(a) National Endowment for the Arts. (1) Artistic and related positions at grades GS-13 through GS-15 engaged in the review, evaluation and administration of applications and grants supporting the arts, related research and assessment, policy and program development, arts education, access programs and advocacy or evaluation of critical arts projects and outreach programs. Duties require artistic stature, in-depth knowledge of arts disciplines and/or artistic-related leadership qualities.

Section 213.3190 African Development Foundation

(a) One Enterprise Development Fund Manager. Appointment authority is limited to four years unless extended by the Office.

Section 213.3191 Office of Personnel Management

(a)-(c) (Reserved).

(d) Part-time and intermittent positions of test examiners at grades GS-8 and below.

Section 213.3194 Department of Transportation

(a) U.S. Coast Guard. (1) (Reserved).

(2) Lamplighters.

(3) Professors, Associate Professors, Assistant Professors, Instructors, one Principal Librarian, one Cadet Hostess, and one Psychologist (Counseling) at the Coast Guard Academy, New London, Connecticut.

(b)-(d) (Reserved).

(e) Maritime Administration. (1)-(2) (Reserved).

(3) All positions on Government-owned vessels or those bareboats chartered to the Government and operated by or for the Maritime Administration.

(4)-(5) (Reserved).

(6) U.S. Merchant Marine Academy, positions of: Professors, Instructors, and Teachers, including heads of Departments of Physical Education and Athletics, Humanities, Mathematics and Science, Maritime Law and Economics, Nautical Science, and Engineering; Coordinator of Shipboard Training; the Commandant of Midshipmen, the Assistant Commandant of Midshipmen; Director of Music; three Battalion Officers; three Regimental Affairs Officers; and one Training Administrator.

(7) U.S. Merchant Marine Academy positions of: Associate Dean; Registrar; Director of Admissions; Assistant Director of Admissions; Director, Office of External Affairs; Placement Officer; Administrative Librarian; Shipboard Training Assistant; three Academy Training Representatives; and one Education Program Assistant.

Section 213.3195 Federal Emergency Management Agency

(a) Field positions at grades GS-15 and below, or equivalent, which are engaged in work directly related to unique response efforts to environmental emergencies not covered by the Disaster Relief Act of 1974, Public Law 93-288, as amended. Employment under this authority may not exceed 36 months on any single emergency. Persons may not be employed under this authority for long-term duties or for work not directly necessitated by the emergency response effort.

(b) Not to exceed 30 positions at grades GS-15 and below in the Offices of Executive Administration, General Counsel, Inspector General, Comptroller, Public Affairs, Personnel, Acquisition Management, and the State and Local Program and Support Directorate which are engaged in work directly related to unique response efforts to environmental emergencies not covered by the Disaster Relief Act of 1974, Public Law 93-288, as amended. Employment under this authority may not exceed 36 months on any single emergency, or for long-term duties or work not directly necessitated by the emergency response effort. No one may be reappointed under this authority for service in connection with a different emergency unless at least 6 months have elapsed since the individual's latest appointment under this authority.

(c) Not to exceed 350 professional and technical positions at grades GS-5 through GS-15, or equivalent, in Mobile Emergency Response Support Detachments (MERS).

Section 213.3199 Temporary Organizations

(a) Positions on the staffs of temporary boards and commissions which are established by law or Executive order for specified periods not to exceed 4 years to perform specific projects. A temporary board or commission originally established for less than 4 years and subsequently extended may continue to fill its staff positions under this authority as long as its total life, including extension(s), does not exceed 4 years. No board or commission may use this authority for more than 4 years to make appointments and position changes unless prior approval of the Office is obtained.

(b) Positions on the staffs of temporary organizations established within continuing agencies when all of the following conditions are met: (1) The temporary organization is established by an authority outside the agency, usually by law or Executive order; (2) the temporary organization is established for an initial period of 4 years or less and, if subsequently extended, its total life including extension(s) will not exceed 4 years; (3) the work to be performed by the temporary organization is outside the agency's continuing responsibilities; and (4) the positions filled under this authority are those for which other staffing resources or authorities are not available within the agency. An agency may use this authority to fill positions in organizations which do not meet all of the above conditions or to make appointments and position changes in a single organization during a period longer than 4 years only with prior approval of the Office.

Schedule B

Section 213.3202 Entire Executive Civil Service

(a) Student Educational Employment Program—Student Temporary Employment Program. (1) Students may be appointed to the Student Temporary Employment Program if they are pursuing any of the following educational programs:

(I) High School Diploma or General Equivalency Diploma (GED);

(ii) Vocational/Technical certificate;

(iii) Associate degree;

(iv) Baccalaureate degree;

(v) Graduate degree; or

(vi) Professional degree

* * * * *

[The remaining text of provisions pertaining to the Student Temporary Employment Program can be found in 5 CFR 213.3202(a).]

(b) Student Educational Employment Program—Student Career Experience Program. (1)(i) Students may be appointed to the Student Career Experience Program if they are pursuing any of the following educational programs:

(A) High school diploma or General Equivalency Diploma (GED);

(B) Vocational/Technical certificate;

(C) Associate degree;

(D) Baccalaureate degree;

(E) Graduate degree; or

(F) Professional degree.

(ii) Student participants in the Harry S. Truman Foundation Scholarship Program under the provision of Public Law 93-842 are eligible for appointments under the Student Career Experience Program.

[The remaining text of provisions pertaining to the Student Career Experience Program can be found in 5 CFR 213.3202(b).]

* * * * *

(c)-(i) (Reserved).

(j) Special executive development positions established in connection with Senior Executive Service candidate development programs which have been approved by OPM. A Federal agency may make new appointments under this authority for any period of employment not exceeding 3 years for one individual.

(k) Positions at grades GS-15 and below when filled by individuals who (1) are placed at a severe disadvantage in obtaining employment because of a psychiatric disability evidenced by hospitalization or outpatient treatment and have had a significant period of substantially disrupted employment because of the disability; and (2) are certified to a specific position by a State vocational rehabilitation counselor or a Veterans Administration counseling psychologist (or psychiatrist) who indicates that they meet the severe disadvantage criteria stated above, that they are capable of functioning in the positions to which they will be appointed, and that any residual disability is not job related. Employment of any individual under this authority may not exceed 2 years following each significant period of mental illness.

(l) (Reserved).

(m) Positions when filled under any of the following conditions: (1) Appointment at grades GS-15 and above, or equivalent, in the same or a different agency without a break in service from a career appointment in the Senior Executive Service (SES) of an individual who:

(i) Has completed the SES probationary period;

(ii) Has been removed from the SES because of less than fully successful executive performance or a reduction in force; and

(iii) Is entitled to be placed in another civil service position under 5 U.S.C. 3594(b).

(2) Appointment in a different agency without a break in service of an individual originally appointed under paragraph (m)(1).

(3) Reassignment, promotion, or demotion within the same agency of an individual appointed under this authority.

(n) Positions when filled by preference eligibles or veterans who have been separated from the armed forces under honorable conditions after 3 years or more of continuous active service and who, in accordance with 5 U.S.C. 3304(f) (Pub. L. 105-339), applied for these positions under merit promotion procedures when applications were being accepted by the agency from individuals outside its own workforce. These veterans may be promoted, demoted, or reassigned, as appropriate, to other positions within the agency but would remain employed under this excepted authority as long as there is no break in service. No new appointments may be made under this authority after November 30, 1999.

Section 213.3203 Executive Office of the President

(a) (Reserved).

(b) Office of the Special Representative for Trade Negotiations. (1) Seventeen positions of economist at grades GS-12 through GS-15.

Section 213.3204 Department of State

(a)-(c) (Reserved).

(d) Fourteen positions on the household staff of the President's Guest House (Blair and Blair-Lee Houses).

(e) (Reserved).

(f) Scientific, professional, and technical positions at grades GS-12 to GS-15 when filled by persons having special qualifications in foreign policy matters. Total employment under this authority may not exceed 4 years.

Section 213.3205 Department of the Treasury

(a) Positions of Deputy Comptroller of the Currency, Chief National Bank Examiner, Assistant Chief National Bank Examiner, Regional Administrator of National Banks, Deputy Regional Administrator of National Banks, Assistant to the Comptroller of the Currency, National Bank Examiner, Associate National Bank Examiner, and Assistant National Bank Examiner, whose salaries are paid from assessments against national banks and other financial institutions.

(b)-(c) (Reserved).

(d) Positions concerned with the protection of the life and safety of the President and members of his immediate family, or other persons for whom similar protective services are prescribed by law, when filled in accordance with special appointment procedures approved by OPM. Service under this authority may not exceed (1) a total of 4 years; or (2) 120 days following completion of the service required for conversion under Executive Order 11203, whichever comes first.

(e) Positions, grades GS-5 through 12, of Treasury Enforcement Agent in the Bureau of Alcohol, Tobacco, and Firearms; and Treasury Enforcement Agent, Pilot, Marine Enforcement Officer, and Aviation Enforcement Officer in the U.S. Customs Service. Service under this authority may not exceed 3 years and 120 days.

Section 213.3206 Department of Defense

(a) Office of the Secretary. (1) (Reserved).

(2) Professional positions at GS-11 through GS-15 involving systems, costs, and economic analysis functions in the Office of the Assistant Secretary (Program Analysis and Evaluation); and in the Office of the Deputy Assistant Secretary (Systems Policy and Information) in the Office of the Assistant Secretary (Comptroller).

(3)-(4) (Reserved).

(5) Four Net Assessment Analysts.

(b) Interdepartmental activities. (1) Five positions to provide general administration, general art and information, photography, and/or visual information support to the White House Photographic Service.

(2) Eight positions, GS-15 or below, in the White House Military Office, providing support for airlift operations, special events, security, and/or administrative services to the Office of the President.

(c) National Defense University. (1) Sixty-one positions of Professor, GS-13/15, for employment of any one individual on an initial appointment not to exceed 3 years, which may be renewed in any increment from 1 to 6 years indefinitely thereafter.

(d) General. (1) One position of Law Enforcement Liaison Officer (Drugs), GS-301-15, U.S. European Command.

(2) Acquisition positions at grades GS-5 through GS-11, whose incumbents have successfully completed the required course of education as participants in the Department of Defense scholarship program authorized under 10 U.S.C. 1744.

(e) Office of the Inspector General. (1) Positions of Criminal Investigator, GS-1811-5/15.

(f) Department of Defense Polygraph Institute, Fort McClellan, Alabama. (1) One Director, GM-15.

(g) Defense Security Assistance Agency. All faculty members with instructor and research duties at the Defense Institute of Security Assistance Management, Wright Patterson Air Force Base, Dayton, Ohio. Individual appointments under this authority will be for an initial 3-year period, which may be followed by an appointment of indefinite duration.

Section 213.3207 Department of the Army

(a) U.S. Army Command and General Staff College. (1) Seven positions of professors, instructors, and education specialists. Total employment of any individual under this authority may not exceed 4 years.

Section 213.3208 Department of the Navy

(a) Naval Underwater Systems Center, New London, Connecticut. (1) One position of Oceanographer, grade GS-14, to function as project director and manager for research in the weapons systems applications of ocean eddies.

(b) All civilian faculty positions of professors, instructors, and teachers on the staff of the Armed Forces Staff College, Norfolk, Virginia.

(c) One Director and four Research Psychologists at the professor or GS-15 level in the Defense Personnel Security Research and Education Center.

(d) All civilian professor positions at the Marine Corps Command and Staff College.

(e) One position of Staff Assistant, GS-301-15, whose incumbent will manage the Navy's Executive Dining facilities at the Pentagon.

(f) One position of Housing Management Specialist, GM-1173-14, involved with the Bachelor Quarters Management Study. No new appointments may be made under this authority after February 29, 1992.

Section 213.3209 Department of the Air Force

(a) Not to exceed four interdisciplinary positions for the Air Research Institute at the Air University, Maxwell Air Force Base, Alabama, for employment to complete studies proposed by candidates and acceptable to the Air Force. Initial appointments are made not to exceed 3 years, with an option to renew or extend the appointments in increments of 1, 2, or 3 years indefinitely thereafter.

(b)-(c) (Reserved).

(d) Positions of Instructor or professional academic staff at the Air University, associated with courses of instruction of varying durations, for employment not to exceed 3 years, which may be renewed for an indefinite period thereafter.

(e) One position of Director of Development and Alumni Programs, GS-301-13, with the U.S. Air Force Academy, Colorado.

Section 213.3210 Department of Justice

(a) Criminal Investigator (Special Agent) positions in the Drug Enforcement Administration. New appointments may be made under this authority only at grades GS-5 through 11. Service under the authority may not exceed 4 years. Appointments made under this authority may be converted to career or career-conditional appointments under the provisions of Executive Order 12230, subject to conditions agreed upon between the Department and OPM.

(b) (Reserved).

(c) Not to exceed 400 positions at grades GS-5 through 15 assigned to regional task forces established to conduct special investigations to combat drug trafficking and organized crime.

(d) (Reserved).

(e) Positions, other than secretarial, GS-6 through GS-15, requiring knowledge of the bankruptcy process, on the staff of the offices of United States Trustees or the Executive Office for U.S. Trustees.

Section 213.3213 Department of Agriculture

(a) Foreign Agricultural Service. (1) Positions of a project nature involved in international technical assistance activities. Service under this authority may not exceed 5 years on a single project for any individual unless delayed completion of a project justifies an extension up to but not exceeding 2 years.

(b) General. (1) Temporary positions of professional Research Scientists, GS-15 or below, in the Agricultural Research Service and the Forest Service, when such positions are established to support the Research Associateship Program and are filled by persons having a doctoral degree in an appropriate field of study for research activities of mutual interest to appointees and the agency. Appointments are limited to proposals approved by the appropriate Administrator. Appointments may be made for initial periods not to exceed 2 years and may be extended for up to 2 additional years. Extensions beyond 4 years, up to a maximum of 2 additional years, may be granted, but only in very rare and unusual circumstances, as determined by the Personnel Officer, Agricultural Research Service, or the Personnel Officer, Forest Service.

(2) Not to exceed 55 Executive Director positions, GM-301-14/15, with the State Rural Development Councils in support of the Presidential Rural Development Initiative.

Section 213.3214 Department of Commerce

(a) Bureau of the Census. (1) (Reserved).

(2) Not to exceed 50 Community Services Specialist positions at the equivalent of GS-5 through GS-12.

(3) Not to exceed 300 Community Awareness Specialist positions at the equivalent of GS-7 through GS-12. Employment under this authority may not exceed December 31, 1992.

(b)-(c) (Reserved).

(d) National Telecommunications and Information Administration. (1) Not to exceed 10 positions of Telecommunications Policy Analysts, grades GS-11 through 15. Employment under this authority may not exceed 2 years.

Section 213.3215 Department of Labor

(a) Chairman, two Members, and one Alternate Member, Administrative Review Board.

(b) (Reserved).

(c) Bureau of International Labor Affairs. (1) Positions in the Office of Foreign Relations, which are paid by outside funding sources under contracts for specific international labor market technical assistance projects. Appointments under this authority may not be extended beyond the expiration date of the project.

Section 213.3217 Department of Education

(a) Seventy-five positions, not in excess of GS-13, of a professional or analytical nature when filled by persons, other than college faculty members or candidates working toward college degrees, who are participating in midcareer development programs authorized by Federal statute or regulation, or sponsored by private nonprofit organizations, when a period of work experience is a requirement for completion of an organized study program. Employment under this authority shall not exceed 1 year.

(b) Fifty positions, GS-7 through GS-11, concerned with advising on education policies, practices, and procedures under unusual and abnormal conditions. Persons employed under this provision must be bona fide elementary school and high school teachers. Appointments under this authority may be made for a period of not to exceed 1 year, and may, with the prior approval of the Office of Personnel Management, be extended for an additional period of 1 year.

Section 213.3227 Department of Veterans Affairs

(a) Not to exceed 800 principal investigatory, scientific, professional, and technical positions at grades GS-11 and above in the medical research program.

(b) Not to exceed 25 Criminal Investigator (Undercover) positions, GS-1811, in grades 5 through 12, conducting undercover investigations in the Veterans Health Administration supervised by the VA, Office of Inspector General. Initial appointments shall be greater than 1 year, but not to exceed 4 years and may be extended indefinitely in 1-year increments.

Section 213.3236 U.S. Soldiers' and Airmen's Home

(a) (Reserved).

(b) Director, Health Care Services; Director, Member Services; Director, Logistics; and Director, Plans and Programs.

Section 213.3240 National Archives and Records Administration

(a) Executive Director, National Historical Publications and Records Commission.

Section 213.3248 National Aeronautics and Space Administration

(a) Not to exceed 40 positions of Command Pilot, Pilot, and Mission Specialist candidates at grades GS-7 through 15 in the Space Shuttle Astronaut program. Employment under this authority may not exceed 3 years.

Section 213.3274 Smithsonian Institution

(a) (Reserved).

(b) Freer Gallery of Art. (1) Not to exceed four positions of Oriental Art Restoration Specialist at grades GS-9 through GS-15.

Section 213.3276 Appalachian Regional Commission

(a) Two Program Coordinators.

Section 213.3278 Armed Forces Retirement Home

(a) Naval Home, Gulfport, Mississippi. (1) One Resource Management Officer position and one Public Works Officer position, GS/GM-15 and below.

Section 213.3282 National Foundation on the Arts and the Humanities

(a) (Reserved).

(b) National Endowment for the Humanities. (1) Professional positions at grades GS-11 through GS-15 engaged in the review, evaluation, and administration of grants supporting scholarship, education, and public programs in the humanities, the duties of which require indepth knowledge of a discipline of the humanities.

Section 213.3285 Pennsylvania Avenue Development Corporation

(a) One position of Civil Engineer (Construction Manager).

Section 213.3291 Office of Personnel Management

(a) Not to exceed eight positions of Associate Director at the Executive Seminar Centers at grades GS-13 and GS-14. Appointments may be made for any period up to 3 years and may be extended without prior approval for any individual. Not more than half of the authorized faculty positions at any one Executive Seminar Center may be filled under this authority.

(b) Twelve positions of faculty members at grades GS-13 through 15, at the Federal Executive Institute. Initial appointments under this authority may be made for any period up to 3 years and may be extended in 1-, 2-, or 3-year increments indefinitely thereafter.

Schedule C

Section 213.3303 Executive Office of the President

Council of Economic Advisers

CEA 1 Confidential Assistant to the Chairman

CEA 4 Confidential Assistant to the Chairman

CEA 5 Administrative Operations Assistant to a Member

CEA 6 Administrative Operations Assistant to a Member

Council on Environmental Quality

CEQ 10 Special Assistant to the Chair, Council on Environmental Quality

CEQ 15 Public Affairs Specialist/Deputy Director to Director for Communications

CEQ 16 Special Assistant to the Chair

CEQ 17 Special Assistant for Outreach and Strategic Planning to the Chief of Staff

Office of Management and Budget

OMB 80 Executive Assistant to the Deputy Director, Office of Management and Budget

OMB 92 Confidential Assistant to the Associate Director for Legislative Reference and Administration

OMB 97 Confidential Assistant to the Administrator, Office of Information and Regulatory Affairs

OMB 102 Special Assistant to the Director, Office of Management and Budget

OMB 107 Senior Public Affairs Specialist to the Director, Office of Management and Budget

OMB 117 Confidential Assistant to the Associate Director, Health/Personnel

OMB 118 Special Assistant to the Controller

OMB 119 Confidential Assistant to the Associate Director, National Security and International Affairs

OMB 123 Legislative Analyst to the Associate Director for Legislative Affairs

OMB 129 Special Assistant for Policy and Legislation to Associate Director, Legislative Affairs

OMB 131 Special Assistant for Policy and Legislation to the Associate Director for Legislative Affairs

OMB 134 Special Assistant to the Director, Office of Management and Budget

OMB 135 Legislative Analyst to the Associate Director for Legislative Affairs

OMB 136 Public Affairs Specialist to the Associate Director for Communication

OMB 137 Legislative Assistant to the Associate Director, Legislative Affairs

OMB 138 Public Affairs Officer to the Associate Director for Communications

Office of National Drug Control Policy

ONDCP 83 Chief, Press Relations to the Director

ONDCP 87 Confidential Administrative Assistant to the Deputy Director

ONDCP 88 Strategic Analyst (Speech writer) to the Chief of Staff

ONDCP 95 Policy Advisor to the Deputy Director

ONDCP 96 Deputy Events Manager to the Director, Strategic Affairs

ONDCP 97 Assistant Director, to the Director, Strategic Planning

ONDCP 98 Staff Assistant to the Chief of Staff

ONDCP 100 Press Relations Assistant (Typing) to the Chief of Press Relations

ONDCP 104 Confidential Assistant to the Director

ONDCP 105 Staff Assistant to the Chief of Staff

ONDCP 108 Special Assistant to the Chief of Staff

ONDCP 109 Staff Assistant to the Director

ONDCP 110 Staff Assistant to the Deputy Director, Supply Reduction

Office of Science and Technology Policy

OSTP 21 Confidential Assistant to the Associate Director Technology Division

OSTP 27 Confidential Assistant to the Associate Director for Science

OSTP 29 Public Affairs Specialist (Assistant) to the Chief of Staff

Office of the United States Trade Representative

USTR 56 Confidential Assistant to the Deputy U.S. Trade Representative

USTR 67 Confidential Assistant to the Chief of Staff

USTR 69 Private Sector Liaison to the Assistant U.S. Trade Representative for Intergovernmental Affairs and Public Liaison

USTR 70 Deputy Assistant for Congressional Affairs to the Assistant U.S. Trade Representative

Official Residence of the Vice President

ORVP 1 Special Assistant, Official Residence of the Vice President to the Chief of Staff to Mrs. Gore

President's Commission on White House Fellowships

PCWHF 7 Education Director to the Director, President's Commission on White House Fellowships

PCWHF 13 Special Assistant to the Director, President's Commission on White House Fellowships

Section 213.3304 Department of State

ST 101 Secretary (Steno O/A) to the Deputy Director

ST 102 Secretary (O/A) to the Under Secretary (Director)

ST 104 Special Assistant to the Under Secretary (Director)

ST 105 Congressional Affairs Specialist to the Director, Congressional Affairs

ST 106 Special Assistant to the Director, Bureau of Education and Cultural Affairs

ST 107 Deputy Chief to the Chief, Cultural Programs Division

ST 108 Legislative Management Officer to the Assistant Secretary, Bureau of Legislative Affairs

ST 109 Special Assistant to the Deputy Assistant Secretary, Bureau of Public Affairs

ST 110 Senior Advisor to the Director, Bureau of Educational and Cultural Affairs

ST 111 Program Officer to the Director, Bureau of Educational and Cultural Affairs

ST 112 Senior Technology Advisor to the Director, Office of International Information Programs

ST 113 Public Affairs Specialist to the Deputy Assistant Secretary, Public Affairs

ST 114 Senior Advisor to the Under Secretary for Public Diplomacy and Public Affairs

ST 115 Staff Director, Fulbright Foreign Scholarship Fund to the Assistant Secretary, Education and Cultural Affairs

ST 116 Special Projects Officer to the Director, Educational and Cultural Affairs

ST 117 Special Assistant to the Director, Office of International Information Programs

ST 118 Senior Advisor to the Deputy Assistant Secretary, Bureau of Public Affairs

ST 119 Director, New York Foreign Press Center to the Deputy Assistant Secretary, Bureau of Public Affairs

ST 121 Special Assistant to the Special Assistant, New York Reception Area

ST 122 Deputy Director to the Director, Intergovernmental Affairs, Bureau of Public Affairs

ST 123 Special Assistant to the Director, Office of International Information Programs

ST 220 Special Assistant to the Assistant Secretary, Bureau of Public Affairs

ST 329 Staff Assistant to the Deputy Secretary of State

ST 399 Confidential Assistant to the Secretary of State

ST 405 Supervisory Protocol Officer (Visits) to the Foreign Affairs Officer (Visits)

ST 406 Staff Assistant to the Under Secretary for Economic, Business and Agricultural Affairs

ST 416 Protocol Officer (Visits) to the Supervisory Protocol Officer for Visits

ST 429 Special Assistant to the Director, Foreign Service Institute

ST 433 Correspondence Officer to the Assistant Secretary, Bureau of Legislative Affairs

ST 451 Special Assistant to the Ambassador-at-Large

ST 460 Staff Assistant to the Chief of Staff

ST 461 Senior Advisor to the Director, Policy Planning Staff

ST 465 Special Assistant to the Secretary of State

ST 467 Foreign Affairs Officer (Visits) to the Chief of Protocol

ST 468 Protocol Officer (Ceremonials) to the Foreign Affairs Officer (Assistant Chief of Protocol for Ceremonials)

ST 478 Special Coordinator to the Deputy Assistant Secretary, Bureau of Democracy, Human Rights and Labor

ST 485 Member Policy Planning Staff to the Director

ST 491 Policy Advisor to the Assistant Secretary, European and Canadian Affairs

ST 495 Senior Coordinator to the Assistant Secretary, Bureau of Democracy, Human Rights and Labor

ST 497 Legislative Management Officer to the Assistant Secretary, Legislative Affairs

ST 500 Staff Assistant to the Special Coordinator for Cyprus

ST 511 Special Assistant to the Legal Advisor

ST 514 Protocol Officer (Visits) to the Foreign Affairs Officer

ST 519 Supervisory Public Affairs Specialist to the Deputy Assistant Secretary

ST 521 Special Assistant to the Deputy Assistant Secretary, Bureau of Public Affairs

ST 523 Office Director (Foreign Affairs) to the Assistant Secretary, Bureau of Democracy, Human Rights and Labor

ST 524 Special Assistant to the Assistant Secretary, Bureau of African Affairs

ST 527 Staff Assistant to the Deputy Assistant Secretary, Bureau of Administration

ST 528 Foreign Affairs Officer (Ceremonials) to the Chief of Protocol

ST 529 Deputy Assistant Secretary to the Assistant Secretary, Bureau of Democracy, Human Rights and Labor

ST 530 Special Assistant to the Assistant Secretary, Asian and Pacific Affairs

ST 531 Special Assistant to the Senior Advisor to the Secretary and White House Liaison

ST 533 Special Assistant to the Ambassador-at-Large for War Crimes Issues

ST 535 Special Assistant to the Women's Coordinator

ST 536 Coordinator, Office of Business Affairs to the Under Secretary for Economic, Business and Agricultural Affairs

ST 539 Foreign Affairs Officer to the Under Secretary for Global Affairs

ST 542 Special Assistant to the Deputy Assistant Secretary, Bureau of Public Affairs

ST 543 Special Assistant to the Assistant Secretary, Bureau of Population, Refugees and Migration

ST 546 Special Assistant to the Assistant Secretary, International Narcotics and Law Enforcement Affairs

ST 547 Special Assistant to the Deputy Assistant Secretary, International Narcotics and Law Enforcement Affairs

ST 548 Member to the Director, Policy and Planning Staff

ST 549 Special Advisor to the Deputy Assistant Secretary

ST 550 Special Assistant to the Chief of Protocol

ST 551 Foreign Affairs Officer to the Deputy Secretary of State

ST 552 Special Assistant to the Senior Advisor

ST 553 Special Assistant to the Assistant Secretary for International Organization Affairs

ST 554 Legislative Management Officer to the Assistant Secretary, Legislative Affairs

ST 555 Legislative Management Officer to the Deputy Assistant Secretary, Legislative Affairs

ST 556 Legislative Management Officer to the Deputy Assistant Secretary

ST 557 Legislative Management Officer to the Assistant Secretary, Bureau of Legislative Affairs

ST 558 Staff Assistant to the Assistant Secretary, Legislative Affairs

ST 559 Staff Assistant to the Deputy Assistant Secretary, Legislative Affairs

ST 560 Special Advisor to the Deputy Assistant Secretary, Bureau of International Narcotics and Law Enforcement

ST 561 Foreign Affairs Officer to the Under Secretary for Global Affairs

ST 562 Legislative Management Officer to the Assistant Secretary, Legislative Affairs

ST 563 Foreign Affairs Officer to the Deputy Director, Office of Policy Planning

ST 565 Public Affairs Specialist to the Deputy Assistant Secretary

ST 566 Public Affairs Specialist to the Deputy Assistant Secretary, Department Spokesman, Bureau of Public Affairs

ST 568 Public Affairs Specialist to the Deputy Assistant Secretary, Public Affairs

ST 569 Public Affairs Specialist to the Deputy Assistant Secretary, Public Affairs

ST 570 Senior Policy Advisor to the Assistant Secretary, Bureau of Legislative Affairs

ST 571 Special Assistant to the Assistant Secretary, Bureau of European Affairs

ST 572 Senior Advisor to the Assistant Secretary, Bureau of South Asian Affairs

ST 573 Resources, Plans and Policy Advisor to the Director, Resources, Plans and Policy

ST 574 Resources, Plans and Policy Advisor to the Director, Resources, Plans and Policy

ST 576 Special Assistant to the Under Secretary for Public Diplomacy and Public Affairs

ST 578 Special Assistant to the Chairman

ST 579 Staff Assistant to the Senior Advisor, Office of the Under Secretary

ST 580 Senior Advisor to the Under Secretary for Public Diplomacy and Public Affairs

ST 581 Staff Assistant to the Under Secretary for Economic, Business and Agricultural Affairs

ST 582 Staff Assistant to the Deputy to the Chief of Staff

ST 583 Program Officer to the Deputy Assistant Secretary, Bureau of Public Affairs

ST 584 Management Analyst to the Deputy Assistant Secretary for Logistics Management

ST 585 Protocol Officer (Visits) to the Chief of Protocol

ST 586 Legislative Management Officer to the Deputy Assistant Secretary, Legislative Affairs

ST 587 Foreign Affairs Officer to the Under Secretary for Global Affairs

ST 588 Special Assistant to the Chief of Protocol

ST 589 Foreign Affairs Officer to the Deputy Director

ST 590 Public Affairs Specialist to the Assistant Secretary, Bureau of Public Affairs

ST 591 Public Affairs Specialist to the Deputy Assistant Secretary, Public Affairs

ST 592 Public Affairs Specialist to the Deputy Assistant Secretary

ST 593 Special Assistant to the Assistant Secretary, Bureau of Oceans, International Environmental and Scientific Affairs

ST 594 Supervisory Public Affairs Specialist to the Deputy Assistant Secretary, Bureau of Public Affairs

ST 595 Special Assistant to the Deputy Assistant Secretary for Public Affairs

ST 596 Program Officer to the Director Foreign Press Center

ST 597 Special Assistant to the United States Representative to the American States, Bureau of Western Hemisphere Affairs

ST 598 Staff Assistant to the Assistant Secretary, Bureau of Legislative Affairs

ST 599 Public Affairs Specialist to the Deputy Assistant Secretary

International Boundary and Water Commission, United States and Mexico

IBWC 1 Confidential Assistant (OA) to the Commissioner, United States Section, International Boundary and Water Commission, United States and Mexico

Section 213.3305 Department of the Treasury

TREA 230 Public Affairs Specialist to the Director, Office of Public Affairs

TREA 250 Director, Office of Public Affairs to the Deputy Assistant Secretary

TREA 254 Deputy Executive Secretary to the Executive Secretary

TREA 316 Public Affairs Specialist to the Director, Office of Public Affairs

TREA 317 Public Affairs Specialist to the Director, Office of Public Affairs

TREA 318 Deputy to the Assistant Secretary, Legislative Affairs and Public Liaison

TREA 342 Deputy Treasurer to the Treasurer of the United States

TREA 351 Public Affairs Specialist to the Director, Office of Public Affairs

TREA 357 Director, Public Correspondence & Deputy to the Executive Secretary

TREA 375 Senior Advisor for Public Affairs to the Director of the U.S. Mint

TREA 378 Chief of Staff to the Under Secretary for Enforcement

TREA 380 Deputy to the Assistant Secretary to the Assistant Secretary, Legislative Affairs and Public Liaison

TREA 381 Senior Advisor to the Assistant Secretary for Legislative Affairs and Public Liaison

TREA 384 Special Assistant and Associate White House Liaison to the Chief of Staff

TREA 387 Enforcement Policy Advisor to the Director, Policy Development

TREA 391 Associate Director of Scheduling and Advance to the Director, Strategic Planning, Scheduling and Advance

TREA 394 Executive Secretary to the Chief of Staff

TREA 396 Director, Public and Business Liaison to the Deputy Assistant Secretary for Public Liaison

TREA 397 Senior Deputy to the Assistant Secretary, Legislative Affairs and Public Liaison

TREA 403 Special Assistant to the Assistant Secretary for Economic Policy

TREA 404 Special Assistant to the Assistant Secretary for Financial Institutions

TREA 405 Special Assistant to the Assistant Secretary, Legislative Affairs and Public Liaison

TREA 406 Director, Public and Business Liaison to the Deputy Assistant Secretary Public Liaison, Office of Legislative Affairs and Public Liaison

TREA 408 Senior Policy Advisor to the Deputy Assistant Secretary for Policy Enforcement

TREA 409 Deputy to the Assistant to the Assistant Secretary for Legislative Affairs and Public Liaison

TREA 410 Executive Assistant to the Deputy Secretary

TREA 411 Special Assistant to the Assistant Secretary for Public Affairs

TREA 412 Special Assistant for Scheduling and Advance to the Director, Strategic Planning, Scheduling and Advance

TREA 413 White House Liaison to the Chief of Staff

TREA 414 Senior Advisor to the Deputy Secretary of the Treasury

TREA 415 Public Affairs Specialist to the Deputy Assistant Secretary, Public Affairs

TREA 416 Associate to the Deputy Assistant Secretary, Management Operations

TREA 417 Senior Advisor to the Deputy Assistant Secretary, Government Financial Policy

TREA 418 Special Assistant to the Executive Secretary

TREA 419 Senior Advisor to the Under Secretary (Enforcement)

TREA 420 Special Assistant to the Assistant Secretary, Legislative Affairs and Public Liaison

TREA 421 Special Assistant to the Assistant Secretary, Legislative Affairs and Public Liaison

TREA 422 Attorney-Advisor to the General Counsel

Section 213.3306 Department of Defense

DOD 24 Chauffeur to the Secretary of Defense

DOD 33 Personal Secretary to the Deputy Secretary of Defense

DOD 271 Private Secretary to the Assistant Secretary of Defense (Reserve Affairs)

DOD 279 Personal and Confidential Assistant to the Director Operational Test and Evaluation

DOD 295 Personal and Confidential Assistant to the Under Secretary of Defense for Personnel and Readiness

DOD 300 Confidential Assistant to the Under Secretary (Acquisition and Technology)

DOD 312 Director, Cooperative Threat Reduction to the Assistant Secretary of Defense (Strategy and Threat Reduction)

DOD 319 Confidential Assistant to the Secretary of Defense

DOD 332 Personal and Confidential Assistant to the Assistant Secretary of Defense (Regional Security)

DOD 355 Special Assistant for Strategic Modernization to the Assistant Secretary of Defense (Legislative Affairs)

DOD 368 Personal and Confidential Assistant to the Assistant Secretary of Defense for Legislative Affairs

DOD 428 Staff Assistant to the Special Assistant to the Secretary of Defense for White House Liaison

DOD 440 Personal and Confidential Assistant to the Deputy Under Secretary of Defense for Acquisition Reform

DOD 449 Staff Specialist to the Assistant to the Secretary of Defense for Public Affairs

DOD 459 Public Affairs Specialist to the Assistant to the Secretary of Defense for Public Affairs

DOD 464 Defense Fellow to the Special Assistant to the Secretary of Defense for White House Liaison

DOD 468 Staff Specialist (International) to the Director, Defense Information Systems Agency

DOD 471 Defense Fellow to the Special Assistant for White House Liaison

DOD 473 Personal and Confidential Assistant to the Assistant Secretary of Defense for Special Operations and Low Intensity Conflict

DOD 474 Program Analyst to the Deputy Under Secretary (Environmental Security)

DOD 480 Executive Assistant to the Assistant Secretary of Defense (Strategy Requirements and Resources)

DOD 488 Personal and Confidential Assistant to the Under Secretary of Defense (Comptroller)

DOD 500 Staff Specialist to the Special Assistant for White House Liaison

DOD 501 Special Assistant to the Special Assistant to the Secretary of Defense for White House Liaison

DOD 519 Private Secretary to the Assistant Secretary of Defense (Regional Security Affairs)

DOD 535 Special Assistant to the Deputy to the Under Secretary of Defense for Policy Support

DOD 545 Public Affairs Specialist to the Assistant to the Secretary of Defense (Public Affairs)

DOD 571 Secretary (OA) to the Inspector General, Department of Defense

DOD 577 Special Assistant to the Assistant Secretary (Legislative Affairs)

DOD 578 Personal and Confidential Assistant to the Under Secretary of Defense (Policy)

DOD 580 Defense Fellow to the Special Assistant for White House Liaison

DOD 581 Staff Specialist to the Special Assistant for White House Liaison

DOD 582 Defense Fellow to the Special Assistant for White House Liaison

DOD 583 Speech writer to the Assistant Secretary of Defense for Public Affairs

DOD 588 Director of Communications to the Assistant Secretary of Defense for Legislative Affairs

DOD 595 Confidential Assistant to the Assistant Secretary for Public Affairs

DOD 601 Defense Fellow to the Special Assistant for White House Liaison

DOD 605 Deputy Press Secretary to the Chief Speech Writer for Foreign Affairs

DOD 606 Defense Fellow to the Special Assistant to the Secretary of Defense for White House Liaison

DOD 607 Staff Specialist to the Assistant to the President/Director, White House Office for Women's Initiative and Outreach, Office of the Secretary

DOD 609 Private Secretary to the Deputy Secretary of Defense

DOD 610 Special Assistant to the Assistant Secretary for Health Affairs

DOD 611 Personal and Confidential Assistant to the Secretary of Defense

DOD 613 Staff Assistant to the Secretary of Defense

DOD 614 Staff Specialist to the Chief of Staff to the President

DOD 615 Special Assistant to the Deputy Under Secretary of Defense for Industrial Affairs

DOD 621 Defense Fellow to the Special Assistant for White House Liaison

DOD 624 Defense Fellow to the Special Assistant for White House Liaison

DOD 629 Special Assistant to the Assistant Secretary of Defense, Strategy and Threat Reduction

DOD 631 Staff Specialist to the Director, NATO Policy

DOD 632 Director for Communications Strategy to the Assistant Secretary of Defense for Public Affairs

DOD 634 Special Assistant to the Assistant Secretary of Defense for Legislative Affairs

DOD 635 Director of Public Services to the Assistant Secretary of Defense (Reserve Affairs)

DOD 636 Civilian Executive Assistant to the Chairman, Joint Chiefs of Staff

DOD 638 Director of Editorial Services to the Assistant Secretary of Defense for Public Affairs (European and NATO Affairs)

DOD 639 Staff Specialist to the Assistant Secretary of Defense, (International Security Affairs)

DOD 640 Staff Specialist to the Assistant Secretary of Defense for Strategy and Threat Reduction

DOD 641 Foreign Affairs Specialist to the Deputy Assistant Secretary (Asian and Pacific Affairs)

DOD 642 Special Assistant to the Director, National Partnership for Reinventing Government

DOD 643 Staff Specialist to the Under Secretary for Acquisition and Technology

DOD 646 Defense Fellow to the Special Assistant for White House Liaison

DOD 647 Special Assistant to the Special Assistant to the Secretary and Deputy Secretary of Defense

DOD 649 Confidential Assistant to the Assistant Secretary of Defense for Health Affairs

DOD 650 Speech writer to the Assistant Secretary for Public Affairs

DOD 651 Defense Fellow to the Special Assistant for White House Liaison

DOD 652 Special Assistant to the Special Assistant to the Secretary and Deputy Secretary of Defense

DOD 653 Personal and Confidential Assistant to the Principal Deputy Under Secretary of Defense for Policy

DOD 654 Staff Specialist to the Director, Legislative Affairs

DOD 655 Staff Specialist to the Special Assistant to the President/Senior Director for Intelligence Programs

DOD 658 Speech writer to the Assistant Secretary of Defense for Public Affairs

DOD 660 Staff Specialist to the Special Assistant to the Secretary and Deputy Secretary of Defense

DOD 662 Protocol Specialist to the Director of Protocol

DOD 663 Public Affairs Specialist to the Deputy Assistant Secretary for Communications

DOD 664 International Counterdrug Program Officer to the Principal Director, Drug Enforcement Policy and Support

DOD 665 Special Assistant to the Under Secretary of Defense for Policy

DOD 666 Special Assistant to the Assistant Secretary for Legislative Affairs

DOD 667 Defense Fellow to the Special Assistant for White House Liaison

DOD 668 Defense Fellow to the Special Assistant for White House Liaison

DOD 669 Foreign Affairs Specialist to the Deputy Assistant Secretary for Peacekeeping and Humanitarian Affairs

DOD 670 Foreign Affairs Specialist to the Deputy Assistant Secretary for Inter-American Affairs

DOD 671 Confidential Assistant to the Director, Defense Research and Engineering

DOD 672 Special Assistant to the Assistant Secretary of Defense (Special Operations and Low Intensity Conflict)

DOD 673 Special Assistant for Outreach to the Deputy Under Secretary of Defense (Environmental Security)

DOD 674 Defense Fellow to the Special Assistant to the Secretary of Defense

DOD 675 Special Assistant to the Under Secretary of Defense for Industrial Affairs

DOD 676 Special Assistant for Counter Terrorism/Crisis Management to the Assistant Secretary of Defense for Legislative Affairs

DOD 677 Assistant for Terrorism Consequence Management Policy and Programs to the Deputy Assistant Secretary of Defense

DOD 678 Staff Assistant to the Deputy Assistant Secretary of Defense (Inter-American Affairs)

DOD 679 Defense Fellow to the Special Assistant to Secretary of Defense for White House Liaison

DOD 680 Confidential Assistant to the Deputy Secretary of Defense

DOD 681 Public Affairs Specialist to the Principal Deputy Assistant Secretary of Defense for Public Affairs

DOD 682 Confidential Assistant to the Assistant Secretary of Defense for Public Affairs

DOD 683 Foreign Affairs Specialist to the Deputy Assistant Secretary of Defense (Peacekeeping and Humanitarian Affairs)

DOD 684 Defense Fellow to the Special Assistant to the Secretary of Defense for White House Liaison

Section 213.3307 Department of the Army (DOD)

ARMY 1 Executive Staff Assistant to the Secretary of the Army

ARMY 5 Secretary (Office Automation) to the Assistant Secretary of the Army (Installations, Logistics and Environment)

ARMY 17 Secretary (Office Automation) to the Assistant Secretary of the Army (Civil Works)

ARMY 21 Secretary (Office Automation) to the General Counsel of the Army

ARMY 43 Assistant for Public Liaison to the Secretary of the Army

ARMY 55 Secretary (Office Automation) to the Assistant Secretary of the Army (Financial Management)

ARMY 73 Special Assistant to the Secretary of the Army

ARMY 76 Special Assistant to the Assistant Secretary, Research, Development and Acquisition

ARMY 77 Secretary (Office Automation) to the Assistant Secretary of the Army for Research, Development and Acquisition

ARMY 78 Personal and Confidential Assistant to the Under Secretary of the Army

ARMY 79 Speech writer to the Secretary of the Army

Section 213.3308 Department of the Navy (DOD)

NAV 56 Staff Assistant to the Assistant Secretary of the Navy (Financial Management)

NAV 62 Attorney Advisor to the Principal Deputy General Counsel

NAV 66 Staff Assistant to the Secretary of the Navy

NAV 68 Special Assistant to the Residence Manager/Social Secretary

NAV 69 Staff Assistant to the Under Secretary of the Navy

NAV 70 Staff Assistant to the Assistant Secretary of the Navy for Research, Development and Acquisition

Section 213.3309 Department of the Air Force (DOD)

AF 5 Secretary (Steno) to the Assistant Secretary Acquisition

AF 6 Secretary (Steno) to the Assistant Secretary (Manpower and Reserve Affairs, Installation and Environment)

AF 8 Secretary (Steno/OA) to the General Counsel of the Air Force

AF 22 Secretary (Stenography/OA) to the Assistant to the Vice President for National Security Affairs

AF 31 Staff Assistant to the Assistant to the Vice President for National Security Affairs

AF 42 Staff Assistant to the Principal Deputy Assistant Secretary of the Air Force (Manpower, Reserve Affairs, Installations and Environment).

AF 44 Confidential Assistant to the Secretary of the Air Force

Section 213.3310 Department of Justice

JUS 21 Chief of Staff to the Director, Community Oriented Policing Services

JUS 25 Confidential Assistant to the Assistant Attorney General, Criminal Division

JUS 27 Counsel to the Assistant Attorney General, Environmental and Natural Resources Division

JUS 40 Secretary (OA) to the United States Attorney, Eastern District of Michigan

JUS 47 Secretary (OA) to the United States Attorney, Northern District of West Virginia

JUS 97 Assistant to the Attorney General

JUS 114 Staff Assistant to the Attorney General

JUS 115 Special Assistant to the Director, Community Oriented Policing Services

JUS 122 Public Affairs Specialist to the Director, Office of Public Affairs

JUS 133 Staff Assistant to the Assistant to the Attorney General

JUS 140 Attorney Advisor to the Assistant Attorney General

JUS 144 Special Assistant to the Solicitor General

JUS 150 Special Assistant to the Chairman, U.S. Parole Commission

JUS 166 Counsel to the Attorney General

JUS 198 Special Assistant to the Assistant Attorney General, Criminal Division

JUS 207 Staff Assistant to the Director, Office of Public Affairs

JUS 209 Confidential Assistant to the Assistant Attorney General for Civil Rights Division

JUS 211 Secretary (Office Automation) to the United States Attorney, Nevada

JUS 217 Special Assistant to the Assistant Attorney General

JUS 264 Confidential Assistant to the Assistant Attorney General

JUS 266 Staff Assistant to the Director, Office of Public Affairs

JUS 267 Counsel to the Assistant Attorney General

JUS 273 Special Assistant to the Director, Violence Against Women Office

JUS 283 Assistant Director to the Director, Intergovernmental Affairs

JUS 298 Staff Assistant to the Director, Office of Public Affairs

JUS 312 Senior Counsel to the Assistant Attorney General

JUS 316 Special Assistant to the Director, Bureau of Justice Assistance, Office of Justice Programs

JUS 357 Confidential Assistant to the Deputy Attorney General

JUS 360 Deputy Assistant Attorney General to the Assistant Attorney General, Office of Policy Development

JUS 383 Staff Assistant to the Attorney General

JUS 385 Staff Assistant to the Attorney General

JUS 404 Assistant to the Attorney General

JUS 406 Public Affairs Specialist to the Director, Office of Public Affairs

JUS 412 Deputy Director, Office of Public Affairs to the Director, Office of Public Affairs

JUS 418 Secretary (OA) to the U.S. Attorney, District of Nebraska

JUS 420 Confidential Assistant to the United States Attorney, Eastern District of Pennsylvania

JUS 425 Secretary (OA) to the United States Attorney, Middle District of Pennsylvania

JUS 426 Secretary (OA) to the United States Attorney, District of Maryland

JUS 427 Secretary (OA) to the United States Attorney, District of New Hampshire

JUS 428 Secretary (OA) to the United States Attorney

JUS 431 Secretary (OA) to the United States Attorney, District of Oregon, Portland, OR

JUS 433 Secretary (OA) to the United States Attorney, Middle District of Louisiana

JUS 436 Secretary (OA) to the United States Attorney, Middle District of Alabama

JUS 445 Special Assistant to the Director, Community Relations Service

JUS 448 Secretary (OA) to the U.S. Attorney

Section 213.3312 Department of the Interior

INT 172 Special Assistant to the Commissioner of Reclamation

INT 375 Special Assistant to the Secretary and White House Liaison to the Chief of Staff

INT 467 Special Assistant to the Deputy Chief of Staff

INT 479 Special Assistant to the Associate Director for Policy and Management Improvement

INT 490 Special Assistant (Advance) to the Deputy Chief of Staff

INT 502 Special Assistant to the Assistant Secretary for Policy, Management and Budget

INT 505 Special Assistant to the Director, National Park Service

INT 508 Special Assistant to the Deputy Secretary

INT 509 Special Assistant to the Director, National Park Service

INT 511 Special Assistant to the Deputy Chief of Staff

INT 512 Deputy Director, Office of Intergovernmental Affairs to the Deputy Chief of Staff

INT 513 Special Assistant to the Director, Office of Surface Mining

INT 514 Special Assistant to the Director, Bureau of Land Mines

INT 515 Special Assistant to the Chief of Staff

INT 518 Special Assistant to the Deputy Director, Bureau Land Management

INT 519 Senior Advisor to the Assistant Secretary for Water and Science

INT 520 Director of Scheduling and Advance to the Chief of Staff, Office of the Secretary

INT 523 Chief of Staff to the Deputy Secretary

INT 524 Special Assistant to the Director, Bureau of Land Management

INT 525 Communications Director to the Assistant Secretary for Indian Affairs

INT 526 Deputy Director to the Director, Office of Communications

INT 527 Special Assistant to the Director, Office of Communications

INT 528 Special Assistant for Scheduling to the Deputy Director for External Affairs

INT 529 Special Assistant to the Deputy Director, U.S. Geological Survey

INT 531 Attorney Advisor (General) to the Solicitor

INT 532 Special Assistant to the Deputy Chief of Staff

INT 533 Deputy Scheduler (Outreach) to the Deputy Chief of Staff

INT 534 Special Assistant to the Director, Office of Surface Mining

INT 535 Special Assistant to the Director, Minerals Management Service

INT 537 Special Assistant to the Director, Office of Congressional and Legislative Affairs

INT 538 Special Assistant to the Chief of Staff

INT 539 Special Assistant to the White House Liaison

INT 540 Special Assistant to the Director, Fish and Wildlife Service

INT 541 Special Assistant to the Director, Minerals Management Service

INT 542 Communications Director to the Deputy Secretary

INT 543 Deputy Director, Office of Intergovernmental Affairs to the Deputy Chief of Staff

INT 544 Staff Assistant to the Director, Office of Surface Mining

INT 545 Special Assistant for Hawaiian Affairs to the Director, Office of Insular Affairs

INT 546 Deputy Director, to the Director, Office of Insular Affairs

INT 547 Special Assistant to the Chief of Staff

INT 548 Deputy Assistant Secretary for Workforce Diversity to the Assistant Secretary for Policy, Management and Budget

INT 549 Special Assistant to the Deputy Chief of Staff

INT 550 Senior Advisor to the Assistant Secretary, Policy, Management and Budget

INT 551 Special Assistant to the Deputy Chief of Staff

INT 552 Senior Advisor to the Director, Bureau of Land Management

INT 553 Special Assistant to the Deputy Chief of Staff

INT 554 Special Assistant to the Deputy Assistant Secretary, Policy and International Affairs

INT 555 Administrative Aide to the Director of Intergovernmental Affairs

INT 556 Director of Scheduling and Advance to the Deputy Chief of Staff

INT 557 Special Assistant to the Deputy Chief of Staff

INT 558 Special Assistant to the Deputy Assistant Secretary, Policy and International Affairs

INT 559 Special Assistant to the Deputy Chief of Staff

INT 560 Deputy Director, Office of Intergovernmental Affairs to the Deputy Chief of Staff

Section 213.3313 Department of Agriculture

AGR 32 Confidential Assistant to the Administrator, Agricultural Stabilization and Conservation Service

AGR 35 Staff Assistant to the Administrator, Federal Service Agency

AGR 64 Confidential Assistant to the Administrator, Rural Utilities Service

AGR 77 Director, Intergovernmental Affairs to the Assistant Secretary for Congressional Relations

AGR 79 Confidential Assistant to the Administrator, Farmers Home Administration

AGR 100 Special Assistant for Nutrition Education to the Administrator, Food and Consumer Service

AGR 131 Private Secretary to the Under Secretary for Natural Resources and Environment

AGR 151 Associate Administrator to the Administrator, Agricultural Marketing Service

AGR 159 Special Assistant to the Administrator, Foreign Agricultural Service

AGR 160 Confidential Assistant to the Associate Administrator, Foreign Agricultural Service

AGR 161 Special Assistant to the Director, Office of Public Affairs

AGR 162 Confidential Assistant to the Administrator, Agricultural Marketing Service

AGR 188 Northeast Area Director to the Deputy Administrator, State and County Operations, Agricultural Stabilization and Conservation Service

AGR 192 Area Director, South West Area to the Administrator, Farm Service Agency

AGR 205 Confidential Assistant to the Director, Office of Consumer Affairs

AGR 224 Chief of Staff to the Administrator, Risk Management Agency

AGR 231 Director, Office of Communications to the Deputy Under Secretary for Rural Development

AGR 258 Confidential Assistant to the Administrator, Foreign Agricultural Service

AGR 263 Special Assistant to the Chief, Natural Resources Conservation Service

AGR 267 Special Assistant to the Director, Office of Communications

AGR 268 Confidential Assistant to the Administrator, Rural Utilities Service

AGR 270 Director, Office of the Executive Secretariat to the Secretary of Agriculture

AGR 275 Confidential Assistant to the Assistant Secretary for Congressional Relations

AGR 281 Confidential Assistant to the Administrator, Farm Service Agency

AGR 285 Confidential Assistant to the Executive Assistant to the Secretary

AGR 286 Confidential Assistant to the Administrator, Foreign Agricultural Service

AGR 294 Confidential Assistant to the Administrator, Animal and Plant Health Inspection Service

AGR 303 Staff Assistant to the Chief, Natural Resources Conservation Service

AGR 311 Confidential Assistant to the Administrator, Agricultural Research Service

AGR 313 Special Assistant to the Administrator, Rural Housing Service

AGR 318 Staff Assistant to the Administrator, Foreign Agricultural Service

AGR 332 Confidential Assistant to the Administrator, Rural Business Service

AGR 352 Confidential Assistant to the Director, Communications and Governmental Affairs

AGR 355 Speech Writer to the Director, Office of Communications

AGR 369 Confidential Assistant to the Director, Office of Communications

AGR 371 Confidential Assistant to the Deputy Under Secretary for Policy and Planning

AGR 377 Confidential Assistant to the Deputy Administrator, Rural Business Service

AGR 384 Confidential Assistant to the Secretary of Agriculture

AGR 386 Special Assistant to the Director, Empowerment Zone/Enterprise Community

AGR 393 Special Assistant to the Administrator, Rural Business-Cooperative Service

AGR 402 Confidential Assistant to the Director, Office of Communications

AGR 404 Confidential Assistant to the Director of Personnel

AGR 413 Special Assistant to the Chief of Natural Resources Conservation Service

AGR 415 Confidential Assistant to the Administrator, Rural Utilities Service

AGR 418 Confidential Assistant to the Chief, Natural Resources Conservation Service

AGR 422 Special Assistant to the Administrator, Farm Service Agency

AGR 426 Deputy Director, Special Projects to the Director, Office of Communications

AGR 427 Confidential Assistant to the Deputy Secretary

AGR 428 Confidential Assistant to the Administrator, Rural Business and Cooperative Development Service

AGR 435 Confidential Assistant to the Administrator, Grain Inspection, Packers and Stockyards Administration

AGR 436 Confidential Assistant to the Administrator, Rural Utilities Service

AGR 438 Confidential Assistant to the Chief, Natural Resources Conservation Service

AGR 440 Confidential Assistant to the Administrator, Rural Utilities Service

AGR 448 Confidential Assistant to the Deputy Administrator for Community Development, Rural Business Cooperative-Service

AGR 450 Confidential Assistant to the Administrator, Agricultural Research Service

AGR 452 Confidential Assistant to the Administrator, Rural Housing Service

AGR 455 Director, Community Outreach Division to the Deputy Administrator, Community Development

AGR 456 Special Assistant to the Administrator, Rural Development/Rural Housing Service

AGR 458 Confidential Assistant to the Deputy Under Secretary, Policy and Planning

AGR 459 Confidential Assistant to the Administrator, Farm Agency Service

AGR 461 Special Assistant to the Chief, Forest Service

AGR 465 Confidential Assistant to the Administrator, Rural Utilities Service

AGR 471 Confidential Assistant to the Administrator, Agricultural Marketing Service

AGR 473 Confidential Assistant to the Administrator, Farm Service Agency

AGR 474 Confidential Assistant to the Director, Communications and Governmental Affairs

AGR 477 Special Assistant to the Associate Administrator, Rural Business Service

AGR 478 Confidential Assistant to the Director, Tobacco and Peanuts Division, Farm Service Agency

AGR 479 Special Assistant to the Administrator, Risk Management Agency

AGR 482 Confidential Assistant to the Administrator, Rural Utilities Service

AGR 483 Confidential Assistant to the Administrator, Rural Business Service

AGR 485 Special Assistant to the Administrator, Food and Inspection Service

AGR 487 Confidential Assistant to the Administrator, Farm Service Agency

AGR 488 Confidential Assistant to the Administrator, Economic Research Service

AGR 489 Confidential Assistant to the Chief Financial Officer

AGR 490 Confidential Assistant to the Administrator, Foreign Agricultural Service

AGR 491 Special Assistant to the Administrator, Agricultural Marketing Service

AGR 492 Special Assistant to the Administrator, Risk Management Agency

AGR 493 Special Assistant to the Administrator, Grain Inspection, Packers and Stockyards Administration

AGR 494 Confidential Assistant to the Administrator, Rural Business Service

AGR 496 Confidential Assistant to the Chief, Natural Resources Conservation Service

AGR 497 Executive Assistant to the Administrator, Rural Housing Service

AGR 498 Confidential Assistant to the Chief Information Officer, Policy Analysis and Coordination Center

AGR 499 Confidential Assistant to the Special Assistant to the Secretary

AGR 501 Confidential Assistant to the Director, Office of Civil Rights

AGR 503 Staff Assistant to the Executive Director

AGR 504 Confidential Assistant to the Administrator, Food and Nutrition Service

AGR 507 Confidential Assistant to the Administrator, Farm Service Agency

AGR 509 Regional Director, Outreach to the Associate Chief, Natural Resources Conservation Service

AGR 510 Speech Writer to the Director, Office of Communications

AGR 515 Confidential Assistant to the Administrator, Rural Business-Cooperative Service

AGR 517 Confidential Assistant to the Administrator, Risk Management Agency

AGR 518 Regional Director, Davis, California, to the Administrator, Farm Service Agency

AGR 519 Staff Assistant to the Chief, Natural Resources Conservations Service

AGR 520 Staff Assistant to the Confidential Assistant to the Secretary of Agriculture

AGR 521 Staff Assistant to the Secretary of Agriculture

AGR 522 Special Assistant to the Director, Office of Civil Rights

AGR 524 Confidential Assistant to the Administrator, Rural Utilities Service

AGR 525 Confidential Assistant to the Administrator, Farm Services Agency

AGR 527 Special Assistant to the Administrator, Foreign Agricultural Service

AGR 528 Confidential Assistant to the Administrator, Farm Service Agency

AGR 529 Special Assistant to the Assistant Secretary for Congressional Relations

AGR 530 Special Assistant to the Confidential Assistant to the Director, Office Civil Rights

AGR 531 Confidential Assistant to the Deputy Administrator, Community Development

AGR 532 Confidential Assistant to the Deputy Administrator, Office of Community Development

AGR 533 Special Assistant to the Deputy Administrator, Community Development

AGR 534 Confidential Assistant to the Director, Office of Communications

AGR 536 Special Assistant to the Deputy Chief Information Officer

AGR 537 Confidential Assistant to the Administrator, Rural Housing Service

AGR 538 Special Assistant to the Associate Chief, Chief Operation Officer, Forest Service

AGR 539 Confidential Assistant to the Administrator, Food Safety and Inspection Service

AGR 542 Confidential Assistant to the Administrator, Rural Utilities Service

AGR 544 Confidential Assistant to the Chief, Natural Resources Conservation Service

AGR 546 Deputy Press Secretary to the Director, Office of Communications

AGR 547 Staff Assistant to the Press Secretary to the Director, Office of Communications

AGR 548 Confidential Assistant to the Director, Office of Communications

AGR 549 Staff Assistant to the Chief (Program Support Assistant) to the Chief, Natural Resources and Environment

AGR 550 Confidential Assistant to the Director, Office of Communications

AGR 551 Special Assistant to the Administrator, Agricultural Research Service

AGR 552 Confidential Assistant to the Administrator, Rural Utilities Service

AGR 553 Staff Assistant to the Administrator, Agricultural Marketing Service

AGR 555 Staff Assistant to the Director, Office of Communications

AGR 556 Confidential Assistant to the Administrator, Animal and Plant Health Inspection Service

AGR 557 Special Assistant to the Chief, Natural Resources Conservation Service

AGR 558 Special Assistant to the Administrator, Foreign Agricultural Service

AGR 559 Confidential Assistant to the Administrator, Risk Management Agency

AGR 560 Senior Policy Director to the Deputy Under Secretary, Policy and Planning

AGR 561 Staff Assistant to the Director, Legislative Liaison, Executive Secretariat and Public Affairs Staff

AGR 562 Confidential Assistant to the Administrator, Rural Housing Service

AGR 563 Confidential Assistant Chief, Natural Resources Conservation Service

AGR 564 Confidential Assistant to the Assistant Secretary for Congressional Relations

AGR 565 Confidential Assistant to the Administrator, Animal and Plant Inspection Service

AGR 566 Confidential Assistant to the Director, Legislative and Public Affairs Staff

AGR 567 Confidential Assistant to the Administrator, Inspection, Packers and Stockyards Administration

AGR 568 Confidential Assistant to the Administrator, External Affairs Staff

AGR 569 Deputy Press Secretary to the Press Secretary

AGR 570 Confidential Assistant to the Administrator, Rural Utilities Service

AGR 571 Staff Assistant to the Director, Office of Communications

AGR 572 Confidential Assistant to the Assistant Secretary for Congressional Relations

AGR 573 Confidential Assistant to the Administrator, Animal Plant and Health Inspection Service

AGR 574 Confidential Assistant to the Administrator, Agricultural Research Service

AGR 575 Special Assistant to the Administrator, Food and Safety Inspection Service

AGR 576 Confidential Assistant to the Administrator, Farm Service Agency

AGR 577 Staff Assistant to the Press Secretary

AGR 578 Confidential Assistant to the Administrator, Rural Utilities Service

Section 213.3314 Department of Commerce

COM 1 Deputy Director to the Director, Office of Business Liaison

COM 2 Confidential Assistant to the Director, Office of External Affairs

COM 30 Confidential Assistant to the Director, Minority Business Development Agency

COM 70 Director, Office of Communications and Congressional Liaison to the Assistant Secretary, Economic Development Administration

COM 162 Senior Advisor to the Assistant Secretary for Market Access and Compliance

COM 163 Special Assistant to the Deputy Assistant Secretary

COM 165 Director, Office of Business Liaison to the Secretary of Commerce

COM 190 Director, Office of Congressional Affairs to the Assistant Secretary for Communication and Information

COM 191 Special Counsel to the General Counsel

COM 200 Special Assistant to the Deputy Assistant Secretary for Intergovernmental Affairs

COM 202 Legislative Affairs Specialist to the Deputy Assistant Secretary for Legislative and Intergovernmental Affairs

COM 204 Special Assistant to the Chief Scientist, National Oceanic and Atmospheric Administration

COM 228 Senior Advisor to the Director, Office of Sustainable Development and Intergovernmental Affairs

COM 259 Director of Congressional Affairs to the Under Secretary for International Trade

COM 290 Confidential Assistant to the Director, Office of Business Liaison

COM 291 Special Assistant to the Director, Office of Public Affairs and Press Secretary

COM 292 Legislative Affairs Specialist to the Assistant Secretary for Legislative and Intergovernmental Affairs

COM 294 Executive Director for Electronic Commerce Coordination to the Chief of Staff

COM 309 Senior Advisor to the Director, Minority Business Development Agency

COM 342 Deputy Director, to the Director, Office of the White House Liaison

COM 345 Senior Advisor to the Counselor to the Department, International Trade

COM 354 Special Assistant to the Assistant Secretary for National Telecommunications and Information Administration

COM 365 Senior Advisor to the Director, Minority Business Development Agency

COM 387 Confidential Assistant to the Under Secretary for Oceans and Atmoshpere

COM 393 Legislative Affairs Specialist to the Assistant Secretary for Legislative and Intergovernmental Affairs

COM 416 Director, Office of Consumer Affairs to the Secretary of Commerce

COM 423 Senior Advisor to the Assistant Secretary and Commissioner, Patent and Trademark Office

COM 425 Director of Public Affairs to the Under Secretary, International Trade Administration

COM 444 Senior Advisor to the Assistant Secretary for Economic Development Administration

COM 447 Confidential Assistant to the Chief of Staff

COM 461 Senior Policy Advisor to the Assistant to the Secretary and Director, Office of Strategic Planning

COM 462 Special Assistant to the Under Secretary for Intellectual Property and Director of the U.S. Patent and Trademark Office

COM 473 Special Assistant to the General Counsel

COM 486 Speech writer to the Assistant to the Secretary and Director, Office of Policy and Strategic Planning

COM 491 Deputy Director for External Affairs and Director of Scheduling to the Director, Office of External Affairs

COM 504 Chief, Office of Congressional Affairs to the Assistant Director for Communications

COM 518 Special Assistant to the Under Secretary for Oceans and Atmospheric Administration

COM 527 Executive Assistant to the Secretary of Commerce

COM 530 Special Assistant to the Under Secretary of Commerce for Technology

COM 533 Special Assistant to the Under Secretary for Intellectual Property and Director of the U.S. Patent and Trademark Office

COM 546 Confidential Assistant to the Chief of Staff

COM 551 Special Assistant to the Assistant Secretary for Legislative and Intergovernmental Affairs

COM 561 Special Assistant to the Assistant Secretary and Commissioner, Patent and Trademark Office

COM 576 Special Assistant to the Deputy Director, Office of Policy and Strategic Planning

COM 578 Special Assistant to the Under Secretary for Export Administration

COM 579 Director of Legislative, Intergovernmental and Public Affairs to the Under Secretary, Bureau of Export Administration

COM 583 Special Assistant to the Chief of Staff

COM 589 Special Assistant to the Director, Office of Sustainable Development and Intergovernmental Affairs

COM 612 Senior Advisor to the Deputy Assistant Secretary for Basic Industries

COM 613 Executive Assistant to the Deputy Secretary of Commerce

COM 618 Special Assistant to the Director, Executive Secretariat Staff

COM 622 Special Assistant to the Assistant Secretary for Economic Development Administration

COM 639 Public Affairs Specialist to the Director, Office of Public Affairs and Press Secretary

COM 645 Senior Advisor for Communications to the Under Secretary for Export Administration, Bureau of Export Administration

COM 652 Special Assistant to the Director, Office of Public Affairs

COM 672 Senior Policy Advisor to the Assistant to the Secretary and Director, Office of Policy and Strategic Planning

COM 674 Special Assistant to the Assistant to the Secretary and Director, Office of Policy and Strategic Planning

COM 677 Deputy Director for External Affairs to the Director of External Affairs

COM 684 Special Assistant to the Senior Advisor to the Department for Puerto Rico Initiatives

COM 688 Confidential Assistant to the Director of External Affairs

COM 692 Director, Secretariat for Electronic Commerce to the Assistant to the Secretary and Director, Office of Policy and Strategic Planning

COM 694 Senior Advisor to the Under Secretary for Economic Affairs

COM 695 Senior Advisor and Counsel to the Director, Office of Policy and Strategic Planning

COM 697 Ombudsman to the Under Secretary for Oceans and Atmosphere

Section 213.3315 Department of Labor

LAB 3 Special Assistant to the Director, Office of Public Liaison

LAB 24 Special Assistant to the Director of the Women's Bureau

LAB 25 Associate Director to the Assistant Secretary for Congressional and Intergovernmental Affairs

LAB 35 Special Assistant to the Director, Women's Bureau

LAB 43 Special Assistant to the Assistant Secretary for Occupational Safety and Health

LAB 66 Executive Assistant to the Deputy Assistant Secretary, Office of Federal Contracts Compliance Programs, Employment Standards Administration

LAB 83 Special Assistant to the Assistant Secretary, Pension and Welfare Benefits Administration

LAB 93 Special Assistant to the Secretary of Labor

LAB 99 Special Assistant to the Assistant Secretary of Labor

LAB 103 Secretary's Representative, Boston, MA to the Office of the Associate Director

LAB 104 Secretary's Representative to the Assistant Secretary, Office of Congressional and Intergovernmental Affairs

LAB 105 Secretary's Representative, Philadelphia, PA to the Assistant Secretary, Office of Congressional and Intergovernmental Affairs

LAB 106 Secretary's Representative, Atlanta, GA to the Director, Office of Intergovernmental Affairs

LAB 107 Secretary's Representative Chicago, Ill to the Associate Director, Congressional and Intergovernmental Affairs

LAB 109 Secretary's Representative Kansas City, MO, to the Associate Director

LAB 110 Secretary's Representative to the Associate Director, Congressional and Intergovernmental Affairs

LAB 111 Secretary's Representative to the Associate Director, Office of Congressional and Intergovernmental Affairs

LAB 112 Secretary's Representative, Seattle, WA to the Director, Office of Intergovernmental Affairs

LAB 125 Chief of Staff to the Assistant Secretary, Employment Standards Administration

LAB 126 Special Assistant for Public Affairs to the Assistant Secretary, Employment Standards Administration

LAB 129 Special Assistant to the Assistant Secretary for Occupational Safety and Health, Occupational Safety And Health Administration

LAB 130 Special Assistant to the Executive Secretary

LAB 132 Associate Director for Congressional Affairs to the Assistant Secretary for Congressional and Intergovernmental Affairs

LAB 139 Special Assistant to the Wage Hour Administrator

LAB 143 Special Assistant to the Administrator, Office of Job Training Programs, Employment and Training

LAB 145 Intergovernmental Officer to the Associate Director Intergovernmental Affairs

LAB 147 Attorney-Advisor to the Solicitor of Labor

LAB 150 Special Assistant to the Director of Public Liaison

LAB 153 Director of Policy to the Assistant Secretary for Occupational Safety and Health

LAB 159 Special Assistant to the Deputy Under Secretary for International Affairs, Bureau of International Labor Affairs

LAB 160 Director of Scheduling and Advance to the Chief of Staff

LAB 161 Special Assistant to the Secretary (Scheduling) to the Director of Scheduling and Advance

LAB 164 Director of Communications and Public Information to the Assistant Secretary for Employment and Training

LAB 171 Special Assistant to the Secretary of Labor

LAB 172 Special Assistant to the Deputy Secretary of Labor

LAB 175 Special Assistant to the Assistant Secretary for Policy

LAB 178 Special Assistant to the Deputy Assistant Secretary for Federal Contract Compliance Programs

LAB 179 Special Assistant to the Assistant Secretary, Employment Standards Administration

LAB 180 Director, Intergovernmental Affairs to the Assistant Secretary, Congressional and Intergovernmental Affairs

LAB 181 Special Assistant to the Deputy Under Secretary for International Labor Affairs

LAB 182 Special Assistant to the Deputy Secretary of Labor

LAB 187 Special Assistant to the Assistant Secretary for Employment and Training

LAB 190 Chief of Staff to the Assistant Secretary, Office of Congressional and Intergovernmental Affairs

LAB 196 Executive Assistant to the Assistant Secretary, Veterans Employment and Training

LAB 204 Special Assistant to the Assistant Secretary for Veterans Employment and Training

LAB 211 Special Assistant to the Director of Scheduling and Advance

LAB 213 Deputy Chief of Staff to the Assistant Secretary for Employment and Training

LAB 215 Special Assistant to the Director, Women's Bureau

LAB 217 Associate Director to the Assistant Secretary for Congressional and Intergovernmental Affairs

LAB 218 Staff Assistant to the Director of Scheduling and Advance

LAB 220 Senior Public Affairs Advisor to the Assistant Secretary for Public Affairs

LAB 221 Special Assistant to the Assistant Secretary for Public Affairs

LAB 225 Special Assistant to the Assistant Secretary for Pension and Welfare Benefits Administration

LAB 226 Special Assistant to the Assistant Secretary

LAB 230 Special Assistant to the Assistant Secretary for Public Affairs

LAB 233 Special Assistant to the Assistant Secretary, Employment Standards Administration

LAB 237 Legislative Officer to the Assistant Secretary for Congressional and Intergovernmental Affairs

LAB 239 White House Liaison to the Secretary of Labor

LAB 240 Legislative Officer to the Assistant Secretary for Congressional and Intergovernmental Affairs

LAB 244 Special Assistant to the Secretary of Labor

LAB 248 Special Assistant to the Chief of Staff

LAB 252 Speech Writer to the Assistant Secretary for Public Affairs

LAB 254 Intergovernmental Officer to the Assistant Secretary for Congressional and Intergovernmental Affairs

LAB 263 Special Assistant to the Administrator, Wage and Hour Division

LAB 269 Intergovernmental Officer to the Assistant Secretary for Congressional and Intergovernmental Affairs

LAB 280 Special Assistant to the Assistant Secretary for Occupational Safety and Health

LAB 283 Advisor to the Assistant Secretary for Mine Safety and Health

LAB 284 Legislative Officer to the Assistant Secretary, Office of Policy and Research, Employment and Training Administration

LAB 288 Special Assistant to the Assistant Secretary for Public Affairs

LAB 289 Special Assistant to the Assistant Secretary for Policy

Section 213.3316 Department of Health and Human Services

HHS 2 Special Assistant to the Chief of Staff

HHS 14 Special Assistant to the Executive Secretary

HHS 17 Director of Scheduling to the Chief of Staff,

HHS 31 Special Assistant to the Secretary of Health and Human Services

HHS 120 Special Assistant to the General Counsel

HHS 187 Special Assistant to the Deputy Assistant Secretary for Public Affairs (Media)

HHS 293 Special Assistant to the Commissioner, Administration for Children, Youth and Families

HHS 315 Special Assistant to the Director, Office of Intergovernmental Affairs

HHS 331 Special Assistant to the Administrator, Health Care Financing Administration

HHS 336 Special Assistant to the Deputy Assistant Secretary for Legislation (Human Services)

HHS 340 Executive Assistant to the Assistant Secretary for Legislation

HHS 346 Congressional Liaison Specialist to the Deputy Assistant Secretary for Legislation (Congressional Liaison)

HHS 359 Congressional Liaison to the Deputy Assistant Secretary for Legislation (Congressional Liaison)

HHS 361 Congressional Liaison Specialist to the Deputy Assistant Secretary for Legislation (Congressional Liaison)

HHS 368 Senior Press Officer to the Administrator, Health Care Financing Administration

HHS 373 Confidential Assistant to the Executive Secretary

HHS 395 Special Assistant to the Director, Office of Community Services, Administration for Children and Families.

HHS 399 Special Assistant to the Assistant Secretary for Children and Families

HHS 419 Special Assistant to the Secretary of Health and Human Services

HHS 427 Executive Director, President's Committee on Mental Retardation to the Assistant Secretary for Children and Families

HHS 436 Associate Commissioner for Family and Youth Services to the Commissioner, Administration for Children and Youth Families

HHS 487 Confidential Assistant to the Administrator, Health Care Financing Administration

HHS 489 Special Assistant to the Assistant Secretary for Children and Families

HHS 513 Confidential Assistant to the Administrator, Health Care Financing Administration

HHS 526 Confidential Assistant to the Executive Associate Administrator, Health Care Financing Administration

HHS 527 Confidential Assistant (Scheduling) to the Director of Scheduling

HHS 529 Confidential Assistant (Scheduling) to the Director of Scheduling and Advance

HHS 553 Director of Communications to the Deputy Assistant Secretary for Public Affairs (Policy and Strategy)

HHS 556 Director of Speech writing to the Deputy Assistant Secretary for Public Affairs

HHS 558 Confidential Assistant to the Assistant Secretary for Public Affairs

HHS 585 Special Assistant (Speech writer) to the Director of Speech writing

HHS 588 Director, Office of Intergovernmental Affairs to the Deputy Assistant Secretary for Policy and External Affairs

HHS 589 Speech writer to the Director of Speech writing

HHS 590 Confidential Assistant (Advance) to the Director of Scheduling and Advance

HHS 593 Special Assistant to the Principal Deputy Assistant Secretary for Children and Families

HHS 615 Special Assistant to the Director of Communications

HHS 625 Special Assistant to the Deputy Assistant Secretary for Public Affairs (Policy and Strategy)

HHS 632 Special Outreach Coordinator to the Assistant Secretary for Public Affairs

HHS 634 Special Assistant to the Deputy Director, Office of Child Support Enforcement

HHS 636 Senior Advisor to the Director, Indian Health Service

HHS 643 Executive Assistant for Legislative Projects to the Assistant Secretary for Health

HHS 644 White House Liaison to the Chief of Staff

HHS 645 Strategic Planning and Policy Coordinator to the Deputy Assistant Secretary for Public Affairs (Policy and Strategy)

HHS 646 Deputy Chief of Staff to the Chief of Staff

HHS 657 Executive Director, Presidential Advisory Council on HIV/AIDS to the Assistant Secretary for Public Health and Science

HHS 659 Special Assistant to the Deputy Secretary

HHS 660 Confidential Assistant to the Executive Secretary

HHS 661 Special Assistant to the Deputy Secretary of Health and Human Services

HHS 665 Deputy Director for Policy to the Director of Intergovernmental Affairs

HHS 666 Deputy Director for Operations to the Director of Intergovernmental Affairs

HHS 667 Confidential Assistant to the Executive Secretary to the Department of Health and Human Services

HHS 668 Special Assistant Community Outreach and Liaison to the Administrator, Substance Abuse and Mental Health Services Administration

HHS 672 Deputy Director of Scheduling to the Director of Scheduling

HHS 673 Senior Advisor to the Assistant Secretary for Health

HHS 674 Special Assistant to the Deputy Director, Office of Child Support Enforcement

HHS 675 Special Assistant to Principal Deputy Assistant for Aging

HHS 678 Confidential Assistant to the Deputy Assistant Secretary for Health

HHS 679 Confidential Assistant to the Strategic Planning and Policy Coordinator

HHS 680 Special Assistant to the Deputy Assistant Secretary for Legislation (Human Services)

HHS 681 Special Assistant to the Commissioner, Administration for Children, Youth and Families

HHS 682 Executive Director, President's Advisory Commission and White House Initiative on Asian Americans and Pacific Islanders to the Principal Deputy Assistant Secretary for Health

HHS 683 Confidential Assistant to the Executive Secretary

Section 213.3317 Department of Education

EDU 1 Special Assistant to the Secretary's Regional Representative, Region IX

EDU 2 Special Assistant to the Assistant Secretary, Office of Elementary and Secondary Education

EDU 3 Special Assistant to the Deputy Secretary

EDU 4 Deputy Secretary's Regional Representative to the Secretary's Regional Representative, Region IV, Office of Intergovernmental and Interagency Affairs

EDU 5 Special Assistant to the Senior Advisor to the Secretary

EDU 6 Confidential Assistant to the Director, Office of Public Affairs

EDU 8 Special Assistant to the Assistant Secretary for Postsecondary Education

EDU 9 Special Assistant to the Counselor to the Secretary

EDU 11 Confidential Assistant to the Senior Advisor to the Secretary of Education

EDU 13 Special Assistant to the Director, Empowerment Zone, Enterprise Community Task Force Staff

EDU 14 Special Assistant to the Assistant Secretary, Office of Postsecondary Education

EDU 16 Special Assistant to the Director, Office of Public Affairs

EDU 17 Special Assistant to the Director, Office of Public Affairs

EDU 18 Special Assistant to the Deputy Assistant Secretary for Regional and Community Services

EDU 19 Director, Intergovernmental and Interagency Affairs Coordination to the Deputy Assistant Secretary, Intergovernmental and Interagency Affairs Coordination

EDU 20 Steward to the Chief of Staff

EDU 21 Confidential Assistant to the Director of Scheduling and Briefing, Office of the Secretary

EDU 23 Special Assistant to the Assistant Secretary, Office of Post Secondary Education

EDU 24 Special Assistant to the Deputy Assistant Secretary for Regional and Community Services, Intergovernmental and Interagency Affairs

EDU 28 Confidential Assistant to the Senior Advisor to the Secretary

EDU 29 Special Assistant to the Assistant Secretary, Office of Special Education and Rehabilitative Services

EDU 30 Director, Scheduling and Briefing Staff to the Chief of Staff, Office of the Secretary

EDU 31 Deputy Director, Scheduling and Briefing Staff to the Director Scheduling and Briefing Staff

EDU 32 Confidential Assistant to the Chief of Staff

EDU 34 Special Assistant to the Commissioner, Rehabilitation Service Administration

EDU 35 Special Assistant to the Deputy Assistant Secretary for Office of Intergovernmental and Interagency Affairs

EDU 36 Special Assistant to the Senior Advisor to the Secretary (Director, America Reads Challenge)

EDU 37 Special Assistant to the Assistant Secretary, Office for Civil Rights

EDU 38 Special Assistant to the Inspector General

EDU 40 Special Assistant to the Assistant Secretary, Office of Elementary and Secondary Education

EDU 41 Confidential Assistant to the Assistant Secretary, Office of Legislative and Congressional Affairs

EDU 42 Special Assistant to the Assistant Secretary for Elementary and Secondary Education

EDU 44 Deputy Assistant Secretary for Intergovernmental, Constituent Relations and Corporate Liaison to the Assistant Secretary, Office of Intergovernmental and Interagency Affairs

EDU 47 Special Assistant to the Assistant Secretary, Office of Postsecondary Education

EDU 48 Special Assistant/Chief of Staff to the Assistant Secretary, Office of Elementary and Secondary Education

EDU 49 Special Assistant to the Assistant Secretary, Office of Civil Rights

EDU 50 Special Assistant to the Director, Office of Public Affairs

EDU 51 Director, White House Initiatives on Tribal Colleges and Universities to the Assistant Secretary, Office of Vocational and Adult Education

EDU 52 Special Assistant to the Chief of Staff

EDU 53 Special Assistant to the Assistant Secretary, Office of Vocational and Adult Education

EDU 54 Confidential Assistant to the Assistant Secretary for Legislation and Congressional Affairs

EDU 55 Special Assistant to the Director, Historically Black Colleges and Universities Staff

EDU 56 Special Assistant to the Secretary's Regional Representative, Region VII

EDU 57 Special Assistant to the Assistant Secretary, Office of Legislative and Congressional Affairs

EDU 58 Confidential Assistant to the Deputy Secretary

EDU 59 Special Assistant to the Deputy Secretary

EDU 60 Confidential Assistant to the Chief of Staff, Office of the Deputy Secretary

EDU 64 Special Assistant to the Director, Scheduling and Briefing Staff

EDU 65 Special Assistant to the Director, Scheduling and Briefing

EDU 66 Special Assistant to the Assistant Secretary, Office of Special Education and Rehabilitative Services

EDU 67 Special Assistant to the Secretary of Education

EDU 69 Special Assistant to the Assistant Secretary, Office of Postsecondary Education

EDU 70 Special Assistant to the Deputy Assistant Secretary, Regional and Community Service

EDU 71 Executive Assistant to the Deputy Secretary

EDU 73 Confidential Assistant to the Director, Intergovernmental and Interagency Coordination

EDU 76 Special Assistant to the Assistant Secretary, Office of Postsecondary Education

EDU 78 Special Assistant to the Assistant Secretary, Office of Postsecondary Education

EDU 79 Special Assistant to the Director, Office of Public Affairs

EDU 81 Special Assistant to the Secretary of Education

EDU 82 Deputy Director to the Director, Office of Bilingual Education and Minority Language Affairs

EDU 84 Special Assistant to the Director Scheduling and Briefing Staff

EDU 89 Special Assistant to the Counselor to the Secretary

EDU 93 Confidential Assistant to the Director, White House Liaison

EDU 94 Special Assistant to the Assistant Secretary, Office of Vocational and Adult Education

EDU 96 Special Assistant to the Director, Scheduling and Briefing, Office of the Secretary

EDU 97 Special Assistant to the Assistant Secretary, Office of Postsecondary Education

EDU 100 Confidential Assistant to the Special Assistant to the Counselor to the Secretary, Office of the Secretary

EDU 103 Secretary's Regional Representative, Region VIII-Denver, CO, to the Assistant Secretary for Intergovernmental and Interagency Affairs

EDU 104 Special Assistant to the Counselor to the Secretary

EDU 107 Secretary's Regional Representative, Region V, Chicago, IL to the Deputy Assistant Secretary

EDU 109 Secretary's Regional Representative, Region VII, Kansas City, MO, to the Director, of the State, Local and Regional Services Staff, Office of Intergovernmental and Interagency Affairs

EDU 110 Secretary's Regional Representative—Region II-New York, N.Y. to the Deputy Assistant Secretary for Regional Services

EDU 113 Special Assistant to the Assistant Secretary, Office of Special Education and Rehabilitative Services

EDU 114 Special Assistant to the Assistant Secretary, Office of Elementary and Secondary Education

EDU 117 Director, Historically Black Colleges to the Assistant Secretary, Office of Postsecondary Education

EDU 118 Special Assistant to the Deputy Assistant Secretary, Intergovernmental, Constituent Relations, and Corporate Liaison

EDU 122 Deputy Secretary's Regional Representative Region VI, Dallas, Texas to the Secretary's Regional Representative

EDU 123 Secretary's Regional Representatives Region VI—Dallas, TX, to the Assistant Secretary for Intergovernmental and Interagency Affairs

EDU 127 Secretary's Regional Representative, Region I, Boston, Massachusetts to the Director, Regional Services Team

EDU 128 Confidential Assistant to the Secretary's Regional Representative, Texas

EDU 130 Confidential Assistant to the Assistant Secretary, Office of Postsecondary Education

EDU 131 Secretary's Regional Representative, Region IX, San Francisco, CA, to the Director, State, Local and Regional Services Staff, Office of Governmental and Interagency Affairs

EDU 132 Special Assistant to the Director, Office of Educational Technology, Office of the Deputy Secretary

EDU 134 Special Assistant to the Assistant Secretary, Office of Interagency Affairs and Community Service

EDU 135 Confidential Assistant to the Director, White House Liaison

EDU 139 Special Assistant to the General Counsel

EDU 140 Liaison for Community and Junior Colleges to the Assistant Secretary for Vocational and Adult Education

EDU 145 Special Assistant to the Assistant Secretary, Office of Elementary and Secondary Education

EDU 146 Special Assistant to the Assistant Secretary, Office of Elementary and Secondary Education

EDU 149 Director, White House Initiative on Hispanic Education to the Assistant Secretary, Office of Intergovernmental and Interagency Affairs

EDU 150 Special Assistant to the Deputy Assistant Secretary, Intergovernmental and Interagency Affairs

EDU 156 Special Assistant to the Deputy Secretary

EDU 157 Special Assistant to the Assistant Secretary, Office of Postsecondary Education

EDU 161 Special Assistant to the Assistant Secretary, Office of Elementary and Secondary Education

EDU 164 Special Assistant to the Assistant Secretary, Office of Intergovernmental and Interagency Affairs

EDU 166 Special Assistant to the Deputy Assistant Secretary for Regional and Community Services

EDU 170 Special Assistant to the Deputy Assistant Secretary for Regional and Community Services

EDU 173 Special Assistant to the Counselor to the Secretary

EDU 174 Special Assistant to the Director, Office of Educational Technology

EDU 176 Confidential Assistant to the Assistant Secretary, Office of Elementary and Secondary Education

EDU 177 Special Assistant to the Deputy Assistant Secretary, for Regional and Community Services, Office of Intergovernmental and Interagency Affairs

EDU 178 Confidential Assistant to the Director, White House Initiative on Hispanic Education

EDU 186 Confidential Assistant to the Director, America Reads Challenge

EDU 188 Confidential Assistant to the Senior Advisor to the Secretary

EDU 190 Special Assistant to the Assistant Secretary, Office of Elementary and Secondary Educations

EDU 191 Confidential Assistant to the Senior Advisor to the Secretary

EDU 194 Confidential Assistant to the Deputy Assistant Secretary, Office of Intergovernmental and Interagency Affairs

EDU 197 Confidential Assistant to the Deputy Assistant Secretary for Regional and Community Services

EDU 198 Special Assistant to the Deputy Secretary

EDU 217 Confidential Assistant to the Assistant Secretary for Intergovernmental and Interagency Affairs

EDU 219 Special Assistant to the Senior Advisor to the Secretary

EDU 224 Confidential Assistant to the Deputy Assistant Secretary

EDU 226 Confidential Assistant to the Director, America Reads Challenge

EDU 227 Confidential Assistant to the Director, Scheduling and Briefing Staff

EDU 228 Confidential Assistant to the Chief of Staff

EDU 256 Special Assistant to the Chief of Staff

EDU 332 Confidential Assistant to the Special Assistant to the Secretary, Office of the Secretary

EDU 340 Deputy Secretary's Regional Representative, Region II, New York, NY, to the Secretary's Regional Representative

EDU 347 Secretary's Regional Representative, Region X, Seattle, WA, to the Director of the State, Local and Regional Services Staff, Office of Intergovernmental and Interagency Affairs

EDU 356 Deputy Director to the Director Office of Public Affairs

EDU 374 Confidential Assistant to the Director, Scheduling and Briefing Staff

EDU 404 Secretary's Regional Representative, Region IV, Atlanta, GA, to the Director, State, Local and Regional Services Staff, Office of Intergovernmental and Interagency Affairs

Section 213.3318 Environmental Protection Agency

EPA 175 Director, Office of the Executive Secretariat to the Chief of Staff, Office of the Administrator

EPA 187 Counsel to the Assistant Administrator for Air and Radiation

EPA 221 Director, Executive Secretariat to the Chief of Staff

EPA 226 Special Assistant to the Regional Administrator

EPA 228 Senior Policy Advisor to the Regional Administrator

EPA 230 Congressional Liaison Specialist to the Assistant Administrator for the Office of Congressional and Intergovernmental Relations

EPA 231 Deputy Chief of Staff (Scheduling) to the Chief of Staff

EPA 232 Press Secretary to the Administrator to the Associate Administrator, Office of Communications, Education and Media Relations

EPA 233 Senior Advisor to the Assistant Administrator, Office of Resources and Management

EPA 235 Deputy Director, Office of Communications and Governmental Relations to the Deputy Regional Administrator, Region Nine

EPA 237 Congressional Liaison Specialist to the Associate Administrator, Office of Congressional and Intergovernmental Affairs

EPA 238 Special Counsel to the Regional Administrator

EPA 239 Special Assistant to the Deputy Administrator

EPA 240 Special Assistant to the Deputy Administrator

Section 213.3328 Federal Communications Commission

FCC 20 Associate Director, Office of Media Relations to the Director, Office of Media Relations

FCC 24 Special Assistant to the Director, Office of Media Relations

FCC 28 Special Assistant for Policy and Communication to the Director, Office of Media Relations

FCC 29 Senior Advisor to the Director, Legislative and Intergovernmental Affairs

FCC 30 Assistant Director to the Director, Office of Media Relations

Section 213.3323 Overseas Private Investment Corporation

OPIC 18 Confidential Assistant to the President and Chief Executive Officer

OPIC 20 Director, Protocol and Special Initiatives to the Vice President, Investment Development Department

Section 213.3325 United States Tax Court

TCOUS 41 Secretary and Confidential Assistant to a Judge

TCOUS 42 Secretary and Confidential Assistant to a Judge

TCOUS 43 Secretary (Confidential Assistant) to a Judge

TCOUS 44 Secretary and Confidential Assistant to a Judge

TCOUS 45 Secretary and Confidential Assistant to a Judge

TCOUS 46 Secretary and Confidential Assistant to a Judge

TCOUS 47 Secretary (Confidential Assistant) to a Judge

TCOUS 48 Secretary and Confidential Assistant to a Judge

TCOUS 49 Secretary and Confidential Assistant to a Judge

TCOUS 50 Secretary and Confidential Assistant to a Judge

TCOUS 51 Secretary and Confidential Assistant to a Judge

TCOUS 52 Secretary (Confidential Assistant) to a Judge

TCOUS 53 Secretary and Confidential Assistant to a Judge

TCOUS 56 Secretary and Confidential Assistant to a Judge

TCOUS 59 Secretary and Confidential Assistant to a Judge

TCOUS 60 Secretary (Confidential Assistant) to a Judge

TCOUS 61 Secretary and Confidential Assistant to a Judge

TCOUS 62 Secretary and Confidential Assistant to a Judge

TCOUS 63 Secretary and Confidential Assistant to a Judge.

TCOUS 64 Secretary and Confidential Assistant to a Judge

TCOUS 65 Secretary and Confidential Assistant to a Judge

TCOUS 66 Trial Clerk to a Judge

TCOUS 67 Trial Clerk to a Judge

TCOUS 68 Trial Clerk to a Judge

TCOUS 69 Trial Clerk to a Judge

TCOUS 71 Trial Clerk to a Judge

TCOUS 72 Trial Clerk to a Judge

TCOUS 73 Trial Clerk to a Judge

TCOUS 74 Trial Clerk to a Judge

TCOUS 75 Trial Clerk to a Judge

TCOUS 77 Trial Clerk to a Judge

TCOUS 78 Trial Clerk to a Judge

TCOUS 79 Trial Clerk to a Judge

TCOUS 80 Secretary (Confidential Assistant) to a Judge

Section 213.3327 Department of Veterans Affairs

VA 72 Special Assistant to the Principal Deputy Assistant Secretary for Congressional Affairs

VA 78 Special Assistant to the Assistant Secretary for Finance and Information Resources Management

VA 79 Special Assistant to the Assistant Secretary for Human Resources and Administration

VA 84 Special Assistant to the Assistant Secretary for Congressional Affairs

VA 90 Executive Assistant to the Deputy Secretary of Veterans Affairs

VA 92 Special Assistant to the Deputy Secretary of Veterans Affairs

VA 96 Special Assistant to the Assistant Secretary for Public and Intergovernmental Affairs

VA 97 Special Assistant to the Assistant Secretary for Policy and Planning

VA 100 Special Assistant to the Deputy Assistant Secretary for International Affairs

VA 101 Special Assistant White House Liaison/Special Projects Staff to the Assistant Secretary for Human Resources and Administration

VA 103 Special Assistant to the Secretary of Veterans Affairs

VA 104 Confidential Assistant to the Secretary of Veterans Affairs

VA 105 Special Assistant to the Chief of Staff

VA 106 Executive Assistant to the Assistant Secretary for Congressional Affairs

Section 213.3328 Broadcasting Board of Governors

BBG 1 Staff Director to the Chairman, Advisory Board for Cuba Broadcasting

BBG 2 Writer to the Director, Office of Policy, International Broadcasting Bureau

BBG 3 Confidential Assistant to the Director, Office of Cuba Broadcasting

BBG 4 Public Affairs Officer to the Director, Voice of America

BBG 5 Senior Advisor to the Director, International Broadcasting Bureau

BBG 6 Development Officer to the Director, International Broadcasting Bureau

BBG 7 Confidential Assistant to the Director, Voice of America

Section 213.3330 Securities and Exchange Commission

SEC 2 Confidential Assistant to a Commissioner

SEC 3 Confidential Assistant to a Commissioner

SEC 4 Confidential Assistant to the Chief of Staff

SEC 5 Confidential Assistant to a Commissioner

SEC 6 Confidential Assistant to a Commissioner

SEC 8 Secretary (OA) to the Chief Accountant

SEC 9 Secretary to the General Counsel

SEC 11 Confidential Assistant to the Chairman

SEC 12 Director of Public Affairs to the Chairman,

SEC 14 Secretary to the Director

SEC 16 Secretary to the Director

SEC 18 Secretary to the Director, Division of Investment Management

SEC 19 Secretary to the Director, Corporation Finance

SEC 24 Secretary to the Chief Economist

SEC 28 Confidential Assistant to the Chairman

SEC 29 Secretary to the Deputy Director of Market Regulation

SEC 31 Special Assistant to the Director, Office of Investor Education and Assistance

SEC 32 Public Affairs Specialist to the Director, Office of Public Affairs, Policy Evaluation and Research

SEC 33 Confidential Assistant to the Director of Public Affairs

SEC 39 Director of Legislative Affairs to the Chairman

SEC 40 Special Advisor to the Chairman

SEC 41 Legislative Affairs Specialist to the Director, Legislative Affairs

SEC 42 Secretary to the Director, Office of Compliance Inspections and Examinations

Section 213.3331 Department of Energy

DOE 189 Special Assistant to the Assistant Secretary for International Affairs

DOE 220 Special Assistant to the Assistant Secretary for Defense Program

DOE 223 Associate Director to the Director, Office of Policy

DOE 231 Public Affairs Specialist to the Director, Office of Public Affairs

DOE 232 Special Assistant to the Assistant Secretary, Office of Environment, Safety and Health

DOE 301 Senior Advisor for Intergovernmental Affairs to the Deputy Assistant Secretary for Intergovernmental and External Affairs

DOE 320 Special Assistant to the Chief Financial Officer

DOE 345 Special Assistant to the Director, Office of Scheduling and Advance

DOE 501 Executive Officer to the Assistant Secretary, Office of Fossil Energy

DOE 511 Senior Policy Advisor to the Secretary of Energy

DOE 578 Director, Office of Materials Management Policy to the Director, Office of Policy

DOE 587 Senior Advisor on Health Policy to the Assistant Secretary for Environment, Safety and Health

DOE 603 Special Assistant to the Director, Office of Strategic Planning and Analysis

DOE 610 Staff Assistant to the Director, Office of Energy Research

DOE 622 Legislative Affairs Liaison Officer to the Deputy Assistant Secretary for Senate Liaison, Office of Congressional and Intergovernmental Affairs

DOE 631 Special Assistant to the Press Secretary, Press Services Division, Office of Public and Consumer Affairs

DOE 644 Staff Assistant to the Assistant Secretary for Efficiency and Renewable Energy

DOE 654 Confidential Staff Assistant to the Deputy Director for Small and Disadvantaged Business Utilization

DOE 655 Special Assistant for Regulatory Compliance to the Deputy Assistant Secretary for Compliance and Program Coordination

DOE 663 Assistant Director for Energy Research (Communications and Development) to the Director, Office of Energy Research

DOE 666 Special Assistant to the Director, Press Services Division

DOE 667 Staff Assistant to the Assistant Secretary for Energy Efficiency and Renewable Energy

DOE 676 Confidential Assistant to the Deputy Assistant Secretary for Management and Evaluation

DOE 679 Special Assistant to the Assistant Secretary for Policy and International Affairs

DOE 680 Staff Assistant to the Chief Financial Officer

DOE 681 Special Assistant to the Director, Office of Worker and Community Transition

DOE 684 Program Specialist to the Director, International Policy and Analysis Division

DOE 699 Special Assistant to the Assistant Secretary for Energy Efficiency and Renewable Energy

DOE 701 Special Assistant to the Assistant Secretary for Defense Programs

DOE 702 Special Assistant to the Director, Office for Worker and Community Transition

DOE 707 Executive Assistant to the Secretary of Energy

DOE 709 Senior Advisor to the Assistant Secretary for Environment, Safety and Health

DOE 712 Special Assistant to the Assistant Secretary for Energy Efficiency and Renewable Energy

DOE 714 Senior Advisor to the Assistant Secretary for Fossil Energy

DOE 718 Intergovernmental Specialist to the Deputy Assistant Secretary, Office of Planning, Budget and Policy

DOE 720 Director of Communications to the Assistant Secretary for Energy Efficiency and Renewable Energy

DOE 722 Special Assistant to the Assistant Secretary for Energy Efficiency and Renewable Energy

DOE 730 Confidential Assistant to the Director, Office of Economic Impact and Diversity

DOE 735 Special Assistant to the Director, Office of Science

DOE 736 Special Assistant to the Director, Office of Energy Research

DOE 740 Special Assistant to the Director, Office of Civilian Radioactive Management

DOE 741 Special Assistant to the Deputy Assistant Secretary for Natural Gas and Petroleum Technology

DOE 747 Deputy Assistant Secretary for Senate Liaision to the Assistant Secretary for Congressional and Intergovernmental Affairs

DOE 755 Special Assistant to the Director, Office of Human Resources

DOE 756 Senior Policy Advisor to the Secretary of Energy

DOE 757 Special Assistant to the Director, Office of Advance and Special Projects

DOE 758 Special Assistant to the Secretary of Energy

DOE 759 Executive Assistant to the Secretary of Energy

DOE 762 Special Assistant to the Secretary of Energy

DOE 763 Senior Management Advisor to the Director, Office of Nuclear Energy, Science and Technology

DOE 766 Special Assistant for Community Outreach to the Assistant Secretary for Environment, Safety and Health

DOE 767 Special Assistant to the Director, Scheduling and Advance

DOE 770 Deputy Assistant Secretary for House Liaison to the Assistant Secretary for Congressional and Intergovernmental Affairs

DOE 771 Special Projects Officer to the Director, Office of Policy and Planning

DOE 772 Special Projects Officer to the Deputy Director, Office of Policy and Planning

DOE 773 Special Assistant to the Principal Deputy Assistant Secretary for Environmental Management

DOE 775 Special Assistant to the Assistant Secretary for Energy Efficiency and Renewable Energy

DOE 776 Director for Indian Affairs to the Assistant Secretary for Congressional and Intergovernmental Affairs

DOE 777 Senior Policy Advisor to the Director of Management and Administration

DOE 778 Special Assistant to the Director of Scheduling and Advance

DOE 779 Special Assistant to the Assistant Secretary for Policy and International Affairs

DOE 780 Associate Chief Financial Officer for Budget, Planning and Financial Management to the Chief Financial Management

DOE 782 Special Assistant to the Director, Office of Arms Control and Nonproliferation

DOE 783 Congressional Liaison Officer to the Deputy Assistant Secretary for House Liaison

DOE 784 Congressional Liaison Officer to the Assistant Secretary for Congressional and Intergovernmental Affairs

DOE 787 Special Assistant to the Assistant Secretary for Environmental Management

DOE 788 Daily Scheduler to the Director, Office of Scheduling and Advance

DOE 789 Daily Scheduler to the Director, Office of Scheduling and Advance

DOE 791 Advisor to the Chief of Staff

DOE 792 Special Assistant to the Deputy Secretary of Energy

DOE 793 Special Assistant to the Director, Consumer Information

DOE 794 Special Assistant to the Director, Office of Scheduling and Advance

DOE 795 Special Assistant to the Director, Office of Scheduling and Advance

DOE 796 Special Assistant to the Director, Office of Consumer Information

DOE 797 Director, Consumer Information to the Director, Management and Administration

DOE 798 Staff Assistant to the Assistant Secretary for Policy

DOE 799 Special Assistant to the Principal Deputy Assistant Secretary

DOE 800 Special Assistant to the Director, Office of Public Affairs

DOE 801 Staff Assistant to the Director of Scheduling and Advance

DOE 802 Special Assistant to the Assistant Secretary for International Affairs

DOE 803 Senior Policy Advisor to the Assistant Secretary for Defense Programs

DOE 805 Special Assistant to the Deputy Assistant Secretary for Transportation Technologies

DOE 806 Special Projects Officer to the Deputy Assistant Secretary, Office of Power Technology

DOE 808 Special Assistant for Communications to the Assistant Secretary for Environmental Management

DOE 809 Director, Energy Advisory Board to the Secretary of Energy

DOE 810 Public Affairs Specialist to the Director, Office of Public Affairs

DOE 811 Public Affairs Specialist to the Director, Office of Public Affairs

DOE 812 Senior Policy Advisor to the Secretary of Energy

DOE 813 Special Assistant to the Deputy Assistant Secretary for Natural Gas and Petroleum Technology

DOE 814 Senior Policy Advisor to the Secretary of Energy

DOE 815 Special Assistant for Regulatory Compliance to the Assistant Secretary for Environmental Management

DOE 816 Special Assistant to the Director, Office of Science

DOE 817 Special Assistant to the Director, Office of Economic Impact and Diversity

DOE 818 Special Assistant to the Director, Office of Scheduling and Advance

DOE 820 Deputy Assistant Secretary for Intergovernmental and External Affairs to the Principal Deputy Assistant Secretary for Congressional and Intergovernmental Affairs

DOE 821 Special Assistant to the Director, Scheduling and Briefing

DOE 822 Special Assistant to the Director, Office of Scheduling and Advance

DOE 824 Special Assistant to the Principal Deputy Assistant Secretary for Congressional and Intergovernmental Affairs

Federal Energy Regulatory Commission

FERC 1 Special Assistant to the Director, Office of External Affairs

FERC 2 Confidential Assistant to a Member

FERC 3 Confidential Assistant to a Member

FERC 13 Technical Advisor to a Member

FERC 14 Ombudsman to the Director, Office of External Affairs

FERC 15 Special Assistant to the Chief Information Officer

FERC 16 Regulatory Policy Analyst to the Director, Office of Markets, Tariffs and Rates

Section 213.3332 Small Business Administration

SBA 11 Deputy Assistant Administrator for Congressional and Legislative Affairs to the Assistant Administrator for Congressional and Legislative Affairs

SBA 30 National Director for Native American Outreach to the Associate Deputy Administrator for Entrepreneurial Development

SBA 35 Senior Advisor to the Associate Deputy Administrator for Government Contracting and Minority Enterprise Development

SBA 55 Senior Advisor to the Associate Deputy Administrator for Management

SBA 59 Assistant Administrator for Public Communications to the Associate Administrator for Communications and Public Liaison

SBA 100 Special Assistant to the Regional Administrator, Dallas Regional Office

SBA 157 Senior Advisor to the Associate Deputy Administrator for Capital Access

SBA 160 Special Assistant to the Assistant Administrator, Office of International Trade

SBA 169 Regional Administrator, Region I, Boston, MA, to the Administrator, Small Business Administration

SBA 170 Regional Administrator to the Associate Administrator for Field Administrations

SBA 172 Regional Administrator, Region VII, Kansas City, MO to the Administrator, Small Business Administration

SBA 173 Regional Administrator, Region VI, Dallas, TX to the Project Director for Field Operations

SBA 174 Regional Administrator, Region V, Chicago, IL to the Assistant Director, for Field Operations

SBA 175 Regional Administrator, Region IV, Atlanta, GA, to the Administrator, Small Business Administration

SBA 176 Regional Administrator, Region II, New York, NY, to the Administrator, Small Business Administration

SBA 178 Regional Administrator, Region III, Philadelphia, PA, to the Administrator, Small Business Administration

SBA 179 Press Officer and Senior Advisor to the Assistant Administrator for Public Communications

SBA 180 Senior Advisor for Communications and Public Liaison to the Associate Administrator for Marketing and Customer Service

SBA 182 Assistant Administrator for Marketing and Outreach to the Associate Administrator for Communications and Public Liaison

SBA 188 Regional Administrator, Region IX, San Francisco, to the Administrator, Small Business Administration

SBA 189 Regional Administrator to the Assistant Administrator, Field Operations

SBA 190 Deputy Chief of Staff to the Chief of Staff

SBA 194 Special Assistant to the Administrator to the Chief of Staff

SBA 195 Associate Director for Field Operations to the Associate Administrator for Field Operations

SBA 205 Deputy Scheduler to the Chief of Staff

SBA 206 National Director for Community Outreach to the Administrator, Small Business Administration

SBA 208 Senior Advisor to the Associate Deputy Administrator of Entrepreneurial Development

SBA 211 Speech Writer to the Associate Administrator for Communications and Public Liaison

SBA 212 Assistant General Counsel to the General Counsel

SBA 214 Assistant Administrator for International Trade to the Associate Deputy Administrator for Capital Access

SBA 216 Senior Advisor to the Associate Deputy Administrator for Entrepreneurial Development

SBA 217 Director for Intergovernmental Affairs to the Associate Administrator for Commerce and Public Liaison

SBA 218 Senior Advisor to the Deputy Administrator

Section 213.3333 Federal Deposit Insurance Corporation

FDIC 11 Secretary to the Chairman

FDIC 15 Administrative Specialist to the Deputy to the Chairman

FDIC 16 Confidential Assistant to the Deputy to the Chairman

Section 213.3334 Federal Trade Commission

FTC 2 Director of Public Affairs (Supervisory Public Affairs Specialist) to the Chairman

FTC 14 Congressional Liaison Specialist to the Director of Congressional Relations

FTC 23 Special Assistant to a Commissioner

FTC 24 Special Assistant to a Commissioner

FTC 25 Director, Congressional Relations to the Chairman

FTC 26 Confidential Assistant to a Commissioner

Section 213.3337 General Services Administration

GSA 24 Special Assistant to the Commissioner, Public Buildings Service

GSA 44 Senior Advisor to the Chief of Staff

GSA 51 Special Assistant to the Administrator

GSA 69 Congressional Relations Officer to the Associate Administrator for Congressional and Intergovernmental Affairs

GSA 90 Deputy Associate Administrator to the Associate Administrator for Congressional and Intergovernmental Affairs

GSA 94 Senior Policy Advisor to the Associate Administrator, Office of Congressional and Intergovernmental Affairs

GSA 102 Special Assistant to the Regional Administrator, National Capital Region

GSA 113 Special Assistant to the Regional Administrator (Boston, MA)

GSA 114 Special Assistant to the Regional Administrator

GSA 130 Special Assistant to the Regional Administrator, Region 7

Section 213.3339 U.S. International Trade Commission

ITC 5 Executive Assistant to a Commissioner

ITC 6 Staff Assistant (Economics) to a Commissioner

ITC 7 Staff Assistant to a Commissioner

ITC 12 Confidential Assistant/Advisor to a Commissioner

ITC 13 Senior Economist to a Commissioner

ITC 15 Confidential Assistant to a Commissioner

ITC 17 Attorney-Advisor (General) to a Commissioner

ITC 18 Staff Assistant (Legal) to a Commissioner

ITC 19 Staff Economist to a Commissioner

ITC 22 Staff Assistant to a Commissioner

ITC 25 Staff Assistant (Economics) to a Commissioner

ITC 30 Confidential Assistant to a Commissioner

ITC 31 Executive Assistant to a Commissioner

ITC 33 Special Assistant (Economics) to a Commissioner

ITC 36 Executive Assistant to a Commissioner

Section 213.3340 National Archives and Records Administration

NARA 3 Presidential Diarist to the Archivist of the United States

Section 213.3341 National Labor Relations Board

NLRB 1 Confidential Assistant to the Chairman

Section 213.3342 Export-Import Bank of the United States

EXIM 3 Administrative Assistant to the President and Chairman

EXIM 30 Administrative Assistant to the Director

EXIM 44 Personal and Confidential Assistant to the First Vice President and Vice Chairman

EXIM 44 Personal and Confidential Assistant to the First Vice President and Vice Chairman

EXIM 45 Administrative Assistant to the Director, a Member of the Bank Board of Directors

EXIM 46 Special Assistant to the First Vice President and Vice Chairman

EXIM 48 Administrative Assistant to the Director, Member of the Board

EXIM 49 Deputy Chief of Staff to the Chief of Staff

EXIM 50 Special Assistant to the President and Chairman

EXIM 53 Special Assistant to the Chairman

EXIM 54 Administrative Specialist to the President and Chairman

EXIM 55 Administrative Specialist to the President and Chairman

EXIM 56 Administrative Specialist to the President and Chairman

EXIM 57 Special Assistant to the President and Chairman

Section 213.3343 Farm Credit Administration

FCA 2 Special Assistant to the Chairman, Farm Credit Administration

FCA 8 Secretary of the Board to the Chief Executive Officer

FCA 12 Public and Congressional Affairs Specialist to the Director, Office of Congressional and Public Affairs

FCA 13 Special Assistant to a Member

FCA 16 Executive Assistant to the Chairman, Farm Credit Administration

Section 213.3344 Occupational Safety and Health Review Commission

OSHRC 2 Confidential Assistant to the Chairman

OSHRC 3 Confidential Assistant to a Member (Commissioner)

OSHRC 8 Counsel to a Member (Commissioner)

Section 213.3346 Selective Service System

SSS 16 Special Assistant to the Director of Selective Service System

Section 213.3348 National Aeronautics and Space Administration

NASA 31 Special Assistant to the NASA Administrator

NASA 34 Manager, Multimedia Relations to the Associate Administrator for Public Affairs

NASA 38 Writer-Editor to the Associate Administrator for Public Affairs

NASA 41 State Local Intergovernmental Affairs Specialist to the Associate Administrator for Policy and Plans

NASA 45 Legislative Affairs Specialist to the Associate Administrator for Legislative Affairs

NASA 47 Program Analyst to the Deputy Associate Administrator for External Relations

NASA 49 Staff Assistant to the Associate Administrator for Legislative Affairs

NASA 52 Program Support Specialist to the Associate Administrator, Outreach Division, Office of Legislative Affairs

NASA 53 Commercialization Specialist to the Associate Administrator for Public Affairs

NASA 54 Public Affairs Specialist to the Associate Administrator for Public Affairs

NASA 55 Legislative Affairs Coordinator to the Associate Administrator for Legislative Affairs

Section 213.3351 Federal Mine Safety and Health Review Commission

FM 8 Attorney Advisor to a Commissioner

FM 17 Confidential Assistant to the Chairman

FM 26 Attorney-Advisor (General) to the Chairman

FM 29 Attorney-Advisor to a Commissioner

FM 30 Confidential Assistant to a Commissioner

FM 31 Confidential Assistant to a Commissioner

Section 213.3352 Government Printing Office

GPO 21 Staff Assistant to the Public Printer

Section 213.3355 Social Security Administration

SSA 4 Special Assistant to the Chief of Staff

SSA 6 Press Officer to the Deputy Commissioner for Communications

SSA 8 Confidential Assistant to the Commissioner of Social Security

SSA 9 Public Affairs Specialist (Speech writer) to the Deputy Commissioner for Communications

Section 213.3356 Commission on Civil Rights

CCR 1 Special Assistant to the Staff Director

CCR 10 Special Assistant to the Staff Director, Office of the Staff Director

CCR 11 Special Assistant to a Commissioner

CCR 12 Special Assistant to a Commissioner

CCR 14 Acting General Counsel to the Staff Director

CCR 23 Special Assistant to a Commissioner

CCR 28 Special Assistant to a Commissioner

CCR 30 Special Assistant to a Commissioner

Section 213.3357 National Credit Union Administration

NCUA 9 Staff Assistant to the Chairman of the Board, National Credit Union Administration

NCUA 12 Executive Assistant to a Board Member

NCUA 20 Executive Assistant to a Board Member

NCUA 21 Confidential Assistant to a Board Member

NCUA 23 Special Assistant to the Executive Director

Section 213.3360 Consumer Product Safety Commission

CPSC 49 Special Assistant to a Commissioner

CPSC 50 Staff Assistant to a Commissioner

CPSC 53 Special Assistant to the Chairman

CPSC 55 Executive Assistant to the Chairman

CPSC 56 Director, Office of Congressional Relations to the Chairman

CPSC 60 Special Assistant to the Chairman

CPSC 61 Staff Assistant to a Commissioner

CPSC 62 Special Assistant to a Commissioner

CPSC 63 Special Assistant to a Commissioner

CPSC 64 Special Assistant (Legal) to a Commissioner

CPSC 66 Supervisory Public Affairs Specialist to the Executive Director

Section 213.3365 U.S. Chemical Safety and Hazard Investigation Board

CSHIB 1 Special Assistant to a Board Member

Section 213.3367 Federal Maritime Commission

FMC 26 Executive Assistant to the Chairman

FMC 42 Counsel to a Commissioner

FMC 43 Counsel to a Commissioner

FMC 44 Special Assistant to a Commissioner

FMC 45 Counsel to a Commissioner

Section 213.3368 Agency for International Development

AID 125 Executive Assistant to the Chief of Staff

AID 127 Supervisory Public Affairs Specialist to the Director, Office of External Affairs

AID 149 Public Affairs Specialist to the Chief, Legislative and Public Affairs, Public Liaison Division

AID 151 Congressional Liaison Officer to the Chief of Legislative and Public Affairs, Congressional Liaison Division

AID 152 Special Assistant to the Assistant Administrator, Bureau for Latin America and the Caribbean

Section 213.3371 Office of Government Ethics

OGE 2 Executive Secretary to the Director, Office of Government Ethics

Section 213.3373 United States Trade and Development Agency

TDA 1 Special Assistant for Public Affairs and Marketing to the Director of the U.S. Trade and Development Agency

TDA 2 Congressional Liaison Officer to the Director, U.S. Trade and Development Agency

TDA 2 Congressional Liaison Officer to the Director, U.S. Trade and Development Agency Section

Section 213.3376 Appalachian Regional Commission

ARC 12 Senior Policy Advisor to the Federal Co-Chairman

ARC 13 Policy Advisor to the Federal Co-Chairman

Section 213.3377 Equal Employment Opportunity Commission

EEOC 2 Special Assistant to the Chairman

EEOC 13 Confidential Assistant to the Director, Legal Counsel

EEOC 32 Senior Advisor to a Commissioner

EEOC 36 Attorney-Advisor to the General Counsel

Section 213.3379 Commodity Futures Trading Commission

CFTC 1 Administrative Assistant to the Chairman

CFTC 3 Administrative Assistant to a Commissioner

CFTC 4 Administrative Assistant to a Commissioner

CFTC 5 Administrative Assistant to a Commissioner

CFTC 21 Governmental Affairs Officer to the Chairman

CFTC 31 Special Assistant to a Commissioner

CFTC 32 Special Assistant to a Commissioner

Section 213.3382 National Foundation on the Arts and Humanities

National Endowment for the Arts

NEA 72 Director of Policy, Planning and Research to the Chairman

NEA 76 Executive Secretary to the Chairman

NEA 77 Director of Public Affairs to the Chairman

NEA 78 Special Assistant to the Chairman

NEA 79 Staff Assistant to the Chairman

National Endowment for the Humanities

NEH 70 Assistant Director of Government Affairs to the Director of Governmental Affairs

NEH 71 Director of Governmental Affairs to the Chief of Staff

NEH 72 Enterprise/Development Officer to the Chief of Staff

Section 213.3384 Department of Housing and Urban Development

HUD 36 Special Assistant for Congressional Relations to the Deputy Assistant Secretary for Congressional Relations

HUD 60 Director, Office of Executive Scheduling to the Chief of Staff

HUD 65 Special Assistant to the Assistant Secretary for Community Planning and Development

HUD 68 Special Assistant to the Assistant Secretary for Community Planning and Development

HUD 137 Special Assistant to the Assistant Secretary for Fair Housing and Equal Opportunity

HUD 143 Special Assistant to the Director, Executive Scheduling

HUD 143 Special Assistant to the Director, Office of Executive Scheduling

HUD 164 Intergovernmental Relations Specialist to the Deputy Assistant Secretary for Intergovernmental Relations

HUD 188 Special Assistant to the Assistant Secretary for Administration

HUD 193 Deputy General Counsel for Programs and Regulations to the General Counsel

HUD 198 Special Assistant to the Senior Advisor to the Secretary

HUD 231 Deputy Assistant Secretary for Strategic Planning to the Assistant Secretary for Congressional and Intergovernmental Relations

HUD 272 Deputy Assistant Secretary for Grant Programs to the Assistant Secretary for Community Planning and Development

HUD 285 Special Assistant to the Advisor for Management Reform and Operations

HUD 292 Special Assistant to the Deputy Assistant Secretary for Economic Development

HUD 339 Special Assistant to the Secretary's Representative

HUD 354 Special Assistant to the Assistant Secretary for Public and Indian Housing

HUD 363 Special Assistant to the Assistant Secretary for Policy Development and Research

HUD 390 Legislative Officer to the Assistant Secretary for Congressional and Intergovernmental Relations

HUD 410 Special Assistant to the General Counsel

HUD 412 Executive Assistant to the Secretary

HUD 421 Assistant Director to the Director, Executive Secretariat, Office of Administration

HUD 423 Secretary's Representative, Rocky Mountain to the Deputy Secretary

HUD 427 Special Assistant to the Advisor to the Deputy Secretary for Management Reform

HUD 437 Special Assistant to the Advisor for Management Reform and Operations

HUD 438 Director, Office of Insured Health Care Facilities to the Assistant Secretary for Housing—Federal Housing Commissioner

HUD 460 Special Assistant to the Director, Office of Executive Scheduling

HUD 469 Special Assistant to the Deputy Assistant Secretary for Community Empowerment

HUD 478 Special Projects Officer to the Senior Advisor to the Secretary

HUD 482 Special Projects Officer to the Director, Special Actions Office

HUD 483 Special Assistant (Advance/Security) to the Director, Executive Scheduling

HUD 487 Advance/Security Coordinator to the Director of Executive Scheduling

HUD 492 Special Assistant to the General Deputy Assistant Secretary for Community Planning and Development

HUD 494 Intergovernmental Relations Specialist to the Deputy Assistant Secretary for Intergovernmental Relations

HUD 496 Staff Assistant to the Deputy Assistant Secretary for Congressional and Intergovernmental Relations

HUD 506 Deputy Assistant Secretary for Community Empowerment to the Assistant Secretary for Community Planning and Development

HUD 524 Special Counsel to the General Counsel

HUD 526 Intergovernmental Relations Specialist to the Deputy Assistant Secretary for Intergovernmental Relations

HUD 534 Special Assistant for Inter-Faith Community Outreach to the Director, Office of Special Actions

HUD 537 Associate General Deputy Assistant Secretary to the Assistant Secretary for Housing

HUD 542 Senior Assistant for Congressional Relations to the Deputy Assistant Secretary for Congressional Relations

HUD 543 Special Assistant to the Deputy Secretary

HUD 548 General Deputy Assistant Secretary to the Assistant Secretary for Public and Indian Housing

HUD 551 Scheduling Assistant to the Director of Executive Scheduling

HUD 555 Staff Assistant to the Advisor for Management Reform and Operation

HUD 558 Special Assistant to the Director, Intergovernmental Relations

HUD 559 Special Assistant to the Secretary's Representative

HUD 560 Secretary's Representative-Midwest to the Deputy Secretary, Office of the Secretary's Representative

HUD 563 Special Assistant to the Secretary's Representative, California State Office

HUD 565 Special Advisor to the Deputy Assistant Secretary for Policy Development

HUD 568 Briefing Coordinator to the Director of Executive Scheduling

HUD 569 Assistant Deputy Secretary for Field Policy and Management to the Deputy Secretary

HUD 573 Special Counsel to the General Counsel

HUD 576 Senior Advisor to the Assistant Secretary for Community Planning and Development

HUD 577 Advisor for Management Reform and Operations to the Assistant Secretary for Administration

HUD 578 Special Assistant to the Secretary's Representative, New England

HUD 579 Special Assistant to the Assistant Secretary for Policy Development and Research

HUD 581 Special Assistant to the Director, Office of Special Actions

HUD 582 Advance Coordinator to the Director, Executive Scheduling

HUD 586 Special Assistant to the Assistant Secretary for Public Affairs

HUD 587 Deputy Assistant Secretary to the Assistant Secretary for Administration.

HUD 590 Special Assistant to the Assistant Secretary for Community Planning and Development

HUD 591 Special Counsel to the General Counsel

HUD 592 Special Counsel to the General Counsel

HUD 593 Deputy Assistant Secretary for Research to the Assistant Secretary for Policy Development and Research

HUD 594 Special Events Coordinator to the Advisor to the Deputy Secretary for Management Reform

HUD 595 Senior Intergovernmental Relations Officer to the Deputy Assistant Secretary for Intergovernmental Relations

HUD 596 Special Assistant to the Assistant Secretary for Policy, Development and Research

HUD 597 Special Assistant to the Assistant Secretary for Policy Development and Research

HUD 598 Special Assistant to the General Counsel

HUD 599 Congressional Relations Officer to the Deputy Assistant Secretary for Congressional Relations

HUD 600 Special Projects Advisor to the Special Events Coordinator, Office of the Assistant Secretary for Administration

HUD 601 Intergovernmental Relations Specialist to the Deputy Assistant Secretary for Intergovernmental Affairs

Section 213.3389 National Mediation Board

NMB 53 Confidential Assistant to a Board Member

NMB 54 Confidential Assistant to a Board Member

Section 213.3391 Office of Personnel Management

OPM 65 Special Assistant to the Director, Office of Congressional Relations

OPM 83 Special Assistant to the Director, Office of Congressional Relations

OPM 86 Deputy Chief of Staff to the Chief of Staff/Director of Scheduling

OPM 87 Confidential Assistant to the Director of Communications

OPM 88 Special Assistant to the Director, Office of Communications

OPM 89 Deputy Director to the Director of Communications

OPM 91 Senior Speech Writer to the Director of Communications

OPM 92 Special Assistant to the Deputy Director

OPM 93 Special Assistant to the Director of Congressional Relations

OPM 95 Special Assistant (White House Liaison) to the Chief of Staff

OPM 96 Deputy Chief of Staff to the Chief of Staff

OPM 97 Senior Advisor for Communications to the Director, Office of Communications

OPM 98 Special Assistant to the Director, Office of the Personnel Management

Section 213.3392 Federal Labor Relations Authority

FLRA 22 Director of External Affairs/Special Projects to the Chair, Federal Labor Relations Authority

Section 213.3393 Pension Benefit Guaranty Corporation

PBGC 7 Assistant Executive Director for Legislative Affairs to the Executive Director

Section 213.3394 Department of Transportation

DOT 38 Special Assistant to the Deputy Administrator, National Highway Traffic Safety Administration

DOT 70 Special Assistant to the Assistant Secretary for Governmental Affairs

DOT 100 Chief, Consumer Information Division to the Director, Office of Public and Consumer Affairs

DOT 105 Staff Assistant to the Director of External Communications

DOT 112 Policy Advisor to the Assistant Secretary for Transportation Policy

DOT 117 Special Assistant to the Secretary of Transportation

DOT 121 Deputy Director to the Director, Office of Congressional Affairs

DOT 127 Special Assistant and Chief, Administrative Operations Staff to the Assistant Secretary for Budget and Programs

DOT 142 Intergovernmental Liaison Officer to the Director, Office of Intergovernmental Affairs

DOT 147 Special Assistant to the Assistant to the Secretary and Director of Public Affairs

DOT 148 Associate Director of Media Relations and Special Projects to the Assistant to the Secretary and Director of Public Affairs

DOT 150 Special Assistant to the Administrator, National Highway Traffic Safety Administration

DOT 151 Special Assistant to the Secretary of Transportation

DOT 159 Special Assistant to the Administrator, Federal Highway Administration

DOT 173 Senior Advisor to the Administrator, Federal Railroad Administration

DOT 185 Special Assistant to the Deputy Assistant Secretary for Aviation and International Affairs

DOT 217 Senior Advisor to the Administrator, Research and Special Programs Administration, Office of the Administrator

DOT 226 Director, Office of Congressional and Public Affairs to the Administrator, Maritime Administration

DOT 235 Scheduling and Advance Assistant to the Director of Scheduling and Advance

DOT 242 Deputy Director, to the Director, Executive Secretariat

DOT 265 Special Assistant to the Director, Office of External Communications

DOT 274 Special Assistant to the Associate Director for Media Relations and Special Projects

DOT 279 Associate Director for Speechwriting and Research to the Assistant to the Secretary and Director of Public Affairs

DOT 287 Scheduling/Advance Assistant to the Director for Scheduling and Advance, Office of the Secretary

DOT 293 Associate Director, Office of Intergovernmental and Consumer Affairs to the Director, Office of Intergovernmental Affairs

DOT 294 Special Assistant to the Associate Deputy Secretary

DOT 296 Special Assistant to the Deputy Administrator, Maritime Administration

DOT 301 Director, Office of Intergovernmental Affairs to the Assistant Secretary for Governmental Affairs

DOT 315 Director of Intergovernmental and Congressional Affairs to the Administrator, National Highway Traffic Safety Administration

DOT 320 Special Assistant to the Secretary of Transportation

DOT 324 Director of Scheduling and Advance to the Chief of Staff

DOT 338 Special Assistant to the Federal Highway Administrator, Federal Highway Administration

DOT 351 Special Assistant to the Deputy Secretary

DOT 355 Director for Drug Enforcement and Program Compliance to the Chief of Staff

DOT 356 Senior Congressional Liaison Officer to the Director, Office of Congressional Affairs

DOT 357 Special Assistant for Scheduling and Advance to the Director for Scheduling and Advance

DOT 358 Special Assistant for Scheduling and Advance to the Director of Scheduling and Advance

DOT 359 Senior Policy Advisor to the Deputy Secretary

DOT 361 Senior Congressional Liaison Officer to the Director, Office of Congressional Affairs

DOT 362 Senior Advisor to the Administrator, Research and Special Programs Administration

DOT 364 Special Assistant to the Deputy Assistant Secretary for Transportation Policy

DOT 365 Special Assistant to the Assistant Secretary for Transportation Policy

Section 213.3395 Federal Emergency Management Agency

FEMA 53 Deputy Chief of Staff to the Director, Federal Emergency Management Agency

FEMA 55 Assistant to the Director for Special Events to the Director, Federal Emergency Management Agency

FEMA 56 Director of Corporate Affairs to the Director, Federal Emergency Management Agency

FEMA 57 Special Assistant for Northridge Transition to the Deputy Chief of Staff, Office of the Director

FEMA 59 Policy Advisor for Congressional and Legislative Affairs to the Director, Office of Congressional nd Legislative Affairs

FEMA 61 Advisor for Intergovernmental Affairs to the Director, Office of Intergovernmental Affairs

FEMA 62 Director, Office of Public Affairs to the Director, Federal Emergency Management Agency

Section 213.3396 National Transportation Safety Board

NTSB 1 Special Assistant to the Chairman

NTSB 2 Special Assistant to the Member

NTSB 30 Confidential Assistant to the Chairman

NTSB 32 Family and Government Affairs Specialist to the Director, Office of Government, Public and Family Matters

NTSB 102 Special Assistant to the Board Member

NTSB 105 Confidential Assistant to the Chairman

NTSB 107 Special Assistant to the Director, Office of Government, Public, and Family Matters

Section 213.3397 Federal Housing Finance Board

FHFB 6 Counselor to the Chairman

Senior Pay Level Positions

Section 213.3390 African Development Foundation

Vice President to the President

Section 213.3342 Export-Import Bank

Vice President—Office of Communications to the President and Chairman

Special Counselor to the President and Chairman

Vice President of Congressional and External Affairs to the President and Chairman General Counsel to the President and Chairman

Section 213.3382 National Foundation on the Arts and the Humanities

Executive Director, President's Committee on the Arts and Humanities

Section 213.3343 Farm Credit Administration

Director, Congressional and Public Affairs to the Chairman

Executive Assistant to a Member

Executive Assistant to a Member

Section 213. 3393 Pension Benefit Guaranty Corporation

Deputy Executive Director and Chief Financial Officer to the Executive Director

Deputy Executive Director/Chief of Staff to the Executive Director

Section 213.3333 Federal Deposit Insurance Corporation

General Counsel to the Chairman

Deputy to the Chairman

Section 213.3305 Department of the Treasury

Secial Assistant to the Commissioner of the Internal Revenue Service

Section 213.3357 National Credit Union Administration

Executive Director to the Board

Executive Assistant to the Chairman

Executive Assistant to a Member

Executive Assistant to a Member

Director of Community Development Credit Unions to the Board

Section 213.3331 Department of Energy

Senior Advisor for Multi-Lateral and Bi-Lateral Affairs to the Assistant Secretary for International Affairs

Section 213.3391 Office of Personnel Management

Senior Advisor to the Director

Authority: 5 U.S.C. 3301 and 3302; E.O. 10577, 3 CFR 1954-1958 Comp., P.218.

Office of Personnel Management.
Janice R. Lachance,
Director.

[FR Doc. 00-26011 Filed 10-11-00; 8:45 am]

BILLING CODE 6325-01-P